ENVIRONMENTAL PROTECTION AGENCY

40 CFR Part 52

[PA200-4200; FRL-7843-2]

Approval and Promulgation of Air Quality Implementation Plans; Pennsylvania; Revised Format for Materials Being Incorporated by Reference

AGENCY: Environmental Protection Agency (EPA).

ACTION: Final rule; notice of administrative change.

SUMMARY: EPA is revising the format for materials submitted by Pennsylvania that are incorporated by reference (IBR) into its State implementation plan (SIP). The regulations affected by this format change have all been previously submitted by Pennsylvania and approved by EPA. This format revision will primarily affect the “Identification of plan” section, as well as the format of the SIP materials that will be available for public inspection at the National Archives and Records Administration (NARA), the Air and Radiation Docket and Information Center located at EPA Headquarters in Washington, D.C., and the EPA Region III Office. EPA is also adding a table in the “Identification of plan” section which summarizes the approval actions that EPA has taken on the non-regulatory and quasi-regulatory portions of the Pennsylvania SIP.

DATES: Effective Date: This final rule is effective on February 25, 2005.

ADDRESSES: SIP materials which are incorporated by reference into 40 CFR part 52 are available for public inspection during normal business hours at the Air Protection Division, U.S. Environmental Protection Agency, Region III, 1650 Arch Street, Philadelphia, Pennsylvania 19103; the Air and Radiation Docket and Information Center, U.S. Environmental Protection Agency, 1301 Constitution Avenue, NW., Room B108, Washington, DC 20460; or the National Archives and Records Administration (NARA). For information on the availability of this material at NARA, call (202) 741-6030, or go to: http://www.archives.gov/federal_register/code_of_federal_regulations/ibr_locations.html.

FOR FURTHER INFORMATION CONTACT: Harold A. Frankford, (215) 814-2108 or by e-mail at frankford.harold@epamail.epa.gov.

SUPPLEMENTARY INFORMATION: The supplementary information is organized in the following order:

I. Background

What a SIP is.

How EPA enforces SIPs.

How the State and EPA updates the SIP.

How EPA compiles the SIPs.

How EPA organizes the SIP compilation.

Where you can find a copy of the SIP compilation.

The format of the new Identification of Plan section.

When a SIP revision becomes Federally enforceable.

The historical record of SIP revision approvals.

II. What EPA is doing in this action.

III. Statutory and Executive Order Reviews

I. Background

What a SIP is—Each state has a SIP containing the control measures and strategies used to attain and maintain the national ambient air quality standards (NAAQS). The SIP is extensive, containing such elements as air pollution control regulations, emission inventories, monitoring network, attainment demonstrations, and enforcement mechanisms.

How EPA enforces SIPs—Each state must formally adopt the control measures and strategies in the SIP after the public has had an opportunity to comment on them. They are then submitted to EPA as SIP revisions on which EPA must formally act.

Once these control measures and strategies are approved by EPA, after notice and comment, they are incorporated into the Federally-approved SIP and are identified in part 52 (Approval and Promulgation of Implementation Plans), title 40 of the Code of Federal Regulations (40 CFR part 52). The actual state regulations approved by EPA are not reproduced in their entirety in 40 CFR part 52, but are “incorporated by reference” (IBR'd) which means that EPA has approved a given state regulation with a specific effective date. This format allows both EPA and the public to know which measures are contained in a given SIP and ensures that the state is enforcing the regulations. It also allows EPA and the public to take enforcement action, should a state not enforce its SIP-approved regulations.

How the State and EPA updates the SIP—The SIP is a living document which the state can revise as necessary to address the unique air pollution problems in the state. Therefore, EPA must, from time to time, take action on SIP revisions containing new and/or revised regulations in order to make them part of the SIP. On May 22, 1997 (62 FR 27968), EPA revised the procedures for IBR'ing Federally-approved SIPs, as a result of consultations between EPA and the Office of the Federal Register (OFR).

EPA began the process of developing: (1) A revised SIP document for each state that would be IBR under the provisions of title 1 CFR part 51; (2) a revised mechanism for announcing EPA approval of revisions to an applicable SIP and updating both the IBR document and the CFR; and (3) a revised format of the “Identification of Plan” sections for each applicable subpart to reflect these revised IBR procedures. The description of the revised SIP document, IBR procedures, and “Identification of Plan” format are discussed in further detail in the May 22, 1997, Federal Register document.

How EPA compiles the SIPs—The Federally-approved regulations, source-specific permits, and nonregulatory provisions (entirely or portions of) submitted by each state agency have been compiled by EPA into a “SIP compilation.” The SIP compilation contains the updated regulations, source-specific permits, and nonregulatory provisions approved by EPA through previous rulemaking actions in the Federal Register.

How EPA organizes the SIP compilation—Each compilation contains three parts. Part one contains the regulations, part two contains the source-specific requirements that have been approved as part of the SIP and part three contains nonregulatory provisions that have been EPA approved. Each part consists of a table of identifying information for each SIP-approved regulation, each SIP-approved source-specific permit, and each nonregulatory SIP provision. In this action, EPA is publishing the tables summarizing the applicable SIP requirements for the Commonwealth of Pennsylvania, Allegheny County, and Philadelphia County. The EPA Regional Offices have the primary responsibility for updating the compilations and ensuring their accuracy.

Where you can find a copy of the SIP compilation—EPA Region III developed and will maintain the compilation for Pennsylvania, including Allegheny and Philadelphia Counties. A copy of the full text of regulatory and source-specific SIP compilations for these three jurisdictions will also be maintained at NARA and EPA's Air Docket and Information Center.

The format of the new Identification of Plan section—In order to better serve the public, EPA revised the organization of the “Identification of Plan” section and included additional information to clarify the enforceable elements of the SIP. The revised Identification of Plan section contains five subsections:

1. Purpose and scope.

2. Incorporation by reference.

3. EPA-approved regulations.

4. EPA-approved source-specific requirements.

5. EPA-approved nonregulatory and quasi-regulatory provisions such as air quality attainment plans, rate of progress plans, maintenance plans, monitoring networks, and small business assistance programs.

When a SIP revision becomes Federally enforceable—All revisions to the applicable SIP become Federally enforceable as of the effective date of the revisions to paragraphs (c), (d), or (e) of the applicable Identification of Plan section found in each subpart of 40 CFR part 52. In general, SIP revisions become effective 30 to 60 days after publication of EPA's SIP approval action in the Federal Register. In specific cases, a SIP revision action may become effective less than 30 days or greater than 60 days after the Federal Register publication date. In order to determine the effective date for a specific Pennsylvania, Allegheny County, or Philadelphia County SIP provision that is listed in paragraphs § 52.2020(c), (d), or (e), consult the Federal Register date, volume and page cited in the “EPA approval date” column for that particular SIP provision.

The historical record of SIP revision approvals—To facilitate enforcement of previously approved SIP provisions and provide a smooth transition to the new SIP processing system, EPA retains the original Identification of Plan section, previously appearing in the CFR as the first or second section of part 52 for each state subpart. After an initial two-year period, EPA will review its experience with the new system and enforceability of previously approved SIP measures and will decide whether or not to retain the Identification of Plan appendices for some further period.

II. What EPA Is Doing in This Action

Today's rule constitutes a “housekeeping” exercise to ensure that all revisions to the state programs that have occurred are accurately reflected in 40 CFR part 52. State SIP revisions are controlled by EPA regulations at 40 CFR part 51. When EPA receives a formal SIP revision request, the Agency must publish the proposed revision in the Federal Register and provide for public comment before approval.

EPA has determined that today's rule falls under the “good cause” exemption in Section 553(b)(3)(B) of the Administrative Procedures Act (APA) which, upon finding “good cause,” authorizes agencies to dispense with public participation and Section 553(d)(3) which allows an agency to make a rule effective immediately (thereby avoiding the 30-day delayed effective date otherwise provided for in the APA). Today's rule simply codifies provisions which are already in effect as a matter of law in Federal and approved state programs. Under Section 553 of the APA, an agency may find good cause where procedures are “impractical, unnecessary, or contrary to the public interest.” Public comment is “unnecessary” and “contrary to the public interest” since the codification only reflects existing law. Immediate notice in the CFR benefits the public by removing outdated citations.

III. Statutory and Executive Order Reviews

A. General Requirements

Under Executive Order 12866 (58 FR 51735, October 4, 1993), this action is not a “significant regulatory action” and is therefore not subject to review by the Office of Management and Budget. This rule is not subject to Executive Order 13211, “Actions Concerning Regulations That Significantly Affect Energy Supply, Distribution, or Use” (66 FR 28355, May 22, 2001) because it is not a significant regulatory action under Executive Order 12866. Because the agency has made a “good cause” finding that this action is not subject to notice-and-comment requirements under the Administrative Procedure Act or any other statute as indicated in the Supplementary Information section above, it is not subject to the regulatory flexibility provisions of the Regulatory Flexibility Act (5 U.S.C 601 et seq.), or to sections 202 and 205 of the Unfunded Mandates Reform Act of 1995 (UMRA) (Pub. L. 104-4). In addition, this action does not significantly or uniquely affect small governments or impose a significant intergovernmental mandate, as described in sections 203 and 204 of UMRA. This rule also does not have a substantial direct effect on one or more Indian tribes, on the relationship between the Federal government and Indian tribes, or on the distribution of power and responsibilities between the Federal government and Indian tribes, as specified by Executive Order 13175 (65 FR 67249, November 9, 2000), nor will it have substantial direct effects on the States, on the relationship between the national government and the States, or on the distribution of power and responsibilities among the various levels of government, as specified in Executive Order 13132 (64 FR 43255, August 10, 1999). This rule also is not subject to Executive Order 13045 (62 FR 19885, April 23, 1997), because it is not economically significant. This rule does not involve technical standards; thus the requirements of section 12(d) of the National Technology Transfer and Advancement Act of 1995 (15 U.S.C. 272 note) do not apply. The rule also does not involve special consideration of environmental justice related issues as required by Executive Order 12898 (59 FR 7629, February 16, 1994). In issuing this rule, EPA has taken the necessary steps to eliminate drafting errors and ambiguity, minimize potential litigation, and provide a clear legal standard for affected conduct, as required by section 3 of Executive Order 12988 (61 FR 4729, February 7, 1996). EPA has complied with Executive Order 12630 (53 FR 8859, March 15, 1998) by examining the takings implications of the rule in accordance with the “Attorney General's Supplemental Guidelines for the Evaluation of Risk and Avoidance of Unanticipated Takings” issued under the executive order. This rule does not impose an information collection burden under the Paperwork Reduction Act of 1995 (44 U.S.C. 3501 et seq.). EPA's compliance with these statutes and Executive Orders for the underlying rules are discussed in previous actions taken on the State's rules.

B. Submission to Congress and the Comptroller General

The Congressional Review Act (5 U.S.C. 801 et seq.), as added by the Small Business Regulatory Enforcement Fairness Act of 1996, generally provides that before a rule may take effect, the agency promulgating the rule must submit a rule report, which includes a copy of the rule, to each House of the Congress and to the Comptroller General of the United States. Section 808 allows the issuing agency to make a rule effective sooner than otherwise provided by the CRA if the agency makes a good cause finding that notice and public procedure is impracticable, unnecessary or contrary to the public interest. Today's action simply codifies provisions which are already in effect as a matter of law in Federal and approved State programs. 5 U.S.C. 808(2). As stated previously, EPA has made such a good cause finding, including the reasons therefore, and established an effective date of February 25, 2005. EPA will submit a report containing this rule and other required information to the U.S. Senate, the U.S. House of Representatives, and the Comptroller General of the United States prior to publication of the rule in the Federal Register. This rule is not a “major rule” as defined by 5 U.S.C. 804(2).

C. Petitions for Judicial Review

EPA has also determined that the provisions of section 307(b)(1) of the Clean Air Act pertaining to petitions for judicial review are not applicable to this action. Prior EPA rulemaking actions for each individual component of the Pennsylvania SIP compilations had previously afforded interested parties the opportunity to file a petition for judicial review in the United States Court of Appeals for the appropriate circuit within 60 days of such rulemaking action. Thus, EPA sees no need in this action to reopen the 60-day period for filing such petitions for judicial review for these “Identification of plan” reorganization actions for Pennsylvania.

List of Subjects in 40 CFR Part 52

Environmental protection, Air pollution control, Carbon monoxide, Incorporation by reference, Intergovernmental relations, Nitrogen dioxide, Ozone, Particulate matter, Reporting and recordkeeping requirements, Sulfur oxides, Volatile organic compounds.

Dated: November 17, 2004.
Thomas Voltaggio,
Acting Regional Administrator, Region III.

For the reasons set forth in the preamble, 40 CFR part 52 is amended as follows:

PART 52—[AMENDED]

1. The authority citation for part 52 continues to read as follows:

Authority: 42 U.S.C. 7401 et seq.

Subpart NN—Pennsylvania

2. Section 52.2020 is redesignated as Section 52.2063 and the heading and paragraph (a) are revised to read as follows:

§ 52.2063 Original identification of plan section.

(a) This section identifies the original “Air Implementation Plan for the Commonwealth of Pennsylvania” and all revisions submitted by Pennsylvania that were federally approved prior to February 10, 2005.

* * * * *

3. A new Section 52.2020 is added to read as follows:

§ 52.2020 Identification of plan.

(a) Purpose and scope. This section sets forth the applicable State implementation plan for Pennsylvania under section 110 of the Clean Air Act, 42 U.S.C. 7410, and 40 CFR part 51 to meet national ambient air quality standards.

(b) Incorporation by reference. (1) Material listed as incorporated by reference in paragraphs (c) and (d) was approved for incorporation by reference by the Director of the Federal Register in accordance with 5 U.S.C. 552(a) and 1 CFR part 51. Material incorporated as it exists on the date of the approval, and notice of any change in the material will be published in the Federal Register. Entries in paragraphs (c) and (d) of this section with EPA approval dates on or after February 10, 2005, will be incorporated by reference in the next update to the SIP compilation.

(2) EPA Region III certifies that the rules/regulations provided by EPA at the addresses in paragraph (b)(3) of this section are an exact duplicate of the officially promulgated State rules/regulations which have been approved as part of the State implementation plan as of February 10, 2005.

(3) Copies of the materials incorporated by reference may be inspected at the EPA Region III Office at 1650 Arch Street, Philadelphia, PA 19103; the EPA, Air and Radiation Docket and Information Center, Air Docket (6102), 1301 Constitution Avenue, NW., Room B108, Washington, DC 20460; or at the National Archives and Records Administration (NARA). For information on the availability of this material at NARA, call (202) 741-6030, or go to: http://www.archives.gov/federal_register/code_of_federal_regulations/ibr_locations.html.

(c) EPA-Approved Regulations.

(1) EPA-Approved Pennsylvania Regulations
State citation | Title subject | State effective date | EPA approval date | Additional explanation/§ 52.2063 citation
Title 25. Environmental Protection Article III. Air Resources
Chapter 121 General Provisions
Section 121.1 | Definitions | 12/27/97 | 2/25/03; 68 FR 8723 | (c)(197).
Section 121.2 | Purpose | 3/20/72 | 5/31/72; 37 FR 10842 | (c)(1).
Section 121.3 | Applicability | 3/20/72 | 5/31/72; 37 FR 10842 | (c)(1).
Section 121.4 | Regional Organization of the Department | 5/23/92 | 12/22/94; 59 FR 65971 | (c)(94).
Section 121.7 | Prohibition of Air Pollution | 3/20/72 | 5/31/72; 37 FR 10842 | (c)(1).
Section 121.8 | Compliance responsibilities | 8/13/77 | 12/17/79; 44 FR 73031 | (c)(21); correction published 8/22/80 (45 FR 56060).
Section 121.9 | Circumvention | 3/20/72 | 5/31/72; 37 FR 10842 | (c)(1).
Section 121.10 | Existing orders | 3/20/72 | 5/31/72; 37 FR 10842 | (c)(1).
Section 121.11 | Severability clause | 3/20/72 | 5/31/72; 37 FR 10842 | (c)(1); no longer in PA DEP rules.
Chapter 123 Standards for Contaminants
Fugitive Emissions
Section 123.1(a) through (c) | Prohibition of certain fugitive emissions | 8/29/77 | 12/17/79; 44 FR 73031 | (c)(21); Paragraph 123.1(d) is not in the SIP.
Section 123.2 | Fugitive particulate matter | 8/13/83 | 7/27/84; 49 FR 30183 | (c)(60).
Particulate Matter Emissions
Section 123.11 | Combusion units | 3/20/72 | 5/31/72; 37 FR 10842 | (c)(1).
Appendix A [Graph] | Particulate Matter-Combustion Units | 3/20/72 | 5/31/72; 37 FR 10842 | (c)(1).
Section 123.12 | Incinerators | 3/20/72 | 5/31/72; 37 FR 10842 | (c)(1).
Section 123.13(a) through (c) | Processes | 8/27/80 | 11/13/81; 46 FR 55971 | (c)(39) paragraph 123.13(d) is not in the SIP.
Appendix B [Graph] | Particulate Matter-Processes Listed in Table 1 | 3/20/72 | 5/31/72; 37 FR 10842 | (c)(1).
Appendix C [Graph] | Particulate Matter-Processes Not Listed in Table 1 | 3/20/72 | 5/31/72; 37 FR 10842 | (c)(1).
Sulfur Compound Emissions
Section 123.21 | General | 3/20/72 | 5/31/72; 37 FR 10842 | (c)(1).
Section 123.22 | Combustion units. [General provisions— air basins and non-air basins] | 3/20/72 | 5/31/72; 37 FR 10842 | (c)(1).
Section 123.22(a) | Combustion units—non Air basins | 8/1/79 | 8/18/81; 46 FR 43423 | (c)(36); approved as part of the control strategy for the Armstrong County sulfur dioxide nonattainment area.
Section 123.22(b) | Combustion units—Erie Air Basin | 8/1/79 | 8/8/79; 44 FR 46465 | (c)(20); correction published 1/23/80 (45 FR 5303).
Section 123.22(c) | Combustion units—Southeast PA Air Basin | 10/1/78 | 6/4/79; 44 FR 31980 | (c)(18).
Section 123.22(c) | Combustion units—Upper Beaver Valley Air Basin | 8/21/82 | 7/5/83; 48 FR 30630 | (c)(53).
Section 123.22(d) | Combustion units—Lower Beaver Valley Air Basin | 1/1/81 | 12/16/81; 46 FR 61267 | (c)(40).
Figure 4 [Graph] | Sulfur Oxides—Combustion Units | 3/20/72 | 5/31/72; 37 FR 10842 | (c)(1).
Section 123.24 | Primary zinc smelters | 8/11/75 | 4/30/76; 41 FR 18077 | (c)(14).
Section 123.25 | Monitoring requirements | 10/27/90 | 6/30/93; 58 FR 34911 | (c)(81).
Odor Emissions
Section 123.31 | Limitations | 3/20/72 | 5/31/72; 37 FR 10842 | (c)(1); SIP version of Section 123.31 is different from State version.
Visible Emissions
Section 123.41 | Limitations | 3/20/72 | 5/31/72; 37 FR 10842 | (c)(1).
Section 123.42 (Except paragraph 123.42(4)) | Exceptions | 3/20/72 | 5/31/72; 37 FR 10842 | (c)(1); Paragraph 123.42(4) is declared not in SIP at (c)(21).
Section 123.43 | Measuring Techniques | 3/20/72 | 5/31/72; 37 FR 10842 | (c)(1).
Section 123.44 | Limitations of visible fugitive air contaminants from operation of any coke oven battery | 12/27/97 | 6/11/02; 67 FR 39854 | (c)(189).
Section 123.45 | Alternative opacity limitations | 6/20/81 | 1/19/83; 48 FR 2319 | (c)(48).
Appendix D [Chart] | Alternative Opcaity Limitation—Application | 6/20/81 | 1/19/83; 48 FR 2319 | (c)(48).
Section 123.46 | Monitoring requirements | 6/20/81 | 1/19/83; 48 FR 2319 | (c)(48).
Nitrogen Compound Emissions
Section 123.51 | Monitoring requirements | 10/20/90 | 9/23/92; 57 FR 43905 | (c)(74).
NOX Allowance Requirements
Section 123.101 | Purpose | 3/11/00 | 6/6/00; 65 FR 35840 | (c)(145).
Section 123.102 | Source NOX allowance requirements and NOX allowance control period | 3/11/00 | 6/6/00; 65 FR 35840 | (c)(145).
Section 123.103 | General NOX allowance provisions | 3/11/00 | 6/6/00; 65 FR 35840 | (c)(145).
Section 123.104 | Source authorized account representative requirements | 3/11/00 | 6/6/00; 65 FR 35840 | (c)(145).
Section 123.105 | NATS provisions | 3/11/00 | 6/6/00; 65 FR 35840 | (c)(145).
Section 123.106 | NOX allowance transfer protocol | 3/11/00 | 6/6/00; 65 FR 35840 | (c)(145).
Section 123.107 | NOX allowance transfer procedures | 3/11/00 | 6/6/00; 65 FR 35840 | (c)(145).
Section 123.108 | Source emissions monitoring requirements | 3/11/00 | 6/6/00; 65 FR 35840 | (c)(145).
Section 123.109 | Source emissions reporting requirements | 3/11/00 | 6/6/00; 65 FR 35840 | (c)(145).
Section 123.110 | Source compliance requirements | 3/11/00 | 6/6/00; 65 FR 35840 | (c)(145).
Section 123.111 | Failure to meet source compliance requirements | 3/11/00 | 6/6/00; 65 FR 35840 | (c)(145).
Section 123.112 | Source operating permit provision requirements | 3/11/00 | 6/6/00; 65 FR 35840 | (c)(145).
Section 123.113 | Source recordkeeping requirements | 3/11/00 | 6/6/00; 65 FR 35840 | (c)(145).
Section 123.114 | General NOX allocation provisions | 3/11/00 | 6/6/00; 65 FR 35840 | (c)(145).
Section 123.115 | Initial NOX allowance NOX allocations | 3/11/00 | 6/6/00; 65 FR 35840 | (c)(145).
Section 123.116 | Source opt-in provisions | 3/11/00 | 6/6/00; 65 FR 35840 | (c)(145).
Section 123.117 | New NOX affected source provisions | 3/11/00 | 6/6/00; 65 FR 35840 | (c)(145).
Section 123.118 | Emission reduction credit provisions | 3/11/00 | 6/6/00; 65 FR 35840 | (c)(145).
Section 123.119 | Bonus NOX allowance awards | 3/11/00 | 6/6/00; 65 FR 35840 | (c)(145).
Section 123.120 | Audit | 3/11/00 | 6/6/00; 65 FR 35840 | (c)(145).
Appendix E [Chart] | Appendix E [NOX Allowances Chart] | 3/11/00 | 6/6/00; 65 FR 35840 | (c)(145).
Chapter 126 Standard for Motor Fuels
Subchapter A. Oxygenate Content of Gasoline
Section 126.101 | General | 8/19/95 | 12/17/99; 64 FR 70589 | (c)(142).
Section 126.102 | Sampling and testing | 8/19/95 | 12/17/99; 64 FR 70589 | (c)(142).
Section 126.103 | Recordkeeping and reporting | 8/19/95 | 12/17/99; 64 FR 70589 | (c)(142).
Section 126.104 | Labeling requirements | 8/19/95 | 12/17/99; 64 FR 70589 | (c)(142).
Subchapter C. Gasoline Volatility Requirements
Section 126.301 (a) through (c) | Compliant fuel requirement | 11/1/97 | 6/8/98; 63 FR 31116 | (c)(131).
Section 126.302 (Except paragraph (a)(6) pertaining to RFG) | Recordkeeping and reporting | 11/1/97 | 6/8/98; 63 FR 31116 | (c)(131).
Section 126.303(a) | Compliance and test methods | 11/1/97 | 6/8/98; 63 FR 31116 | (c)(131).
Subchapter D. Motor Vehicle Emissions Control Program
General Provisions
Section 126.401 | Purpose | 12/5/98 | 12/28/99; 64 FR 72564 | (c)(141)(i)(C).
Section 126.402 | NLEV scope and applicability | 12/5/98 | 12/28/99; 64 FR 72564 | (c)(141)(i)(C).
Pennsylvania Clean Vehicles Program
Section 126.411 | General Requirements | 12/5/98 | 12/28/99; 64 FR 72564 | (c)(141)(i)(C).
Section 126.412 | Emission requirements | 12/5/98 | 12/28/99; 64 FR 72564 | (c)(141)(i)(C).
Section 126.413 | Exemptions | 12/5/98 | 12/28/99; 64 FR 72564 | (c)(141)(i)(C).
Applicable Motor Vehicle Testing
Section 126.421 | New motor vehicle certification testing | 12/5/98 | 12/28/99; 64 FR 72564 | (c)(141)(i)(C).
Section 126.422 | New motor vehicle compliance testing | 12/5/98 | 12/28/99; 64 FR 72564 | (c)(141)(i)(C).
Section 126.423 | Assembly line testing | 12/5/98 | 12/28/99; 64 FR 72564 | (c)(141)(i)(C).
Section 126.424 | In-use motor vehicle enforcement testing | 12/5/98 | 12/28/99; 64 FR 72564 | (c)(141)(i)(C).
Section 126.425 | In-use surveillance testing | 12/5/98 | 12/28/99, 64 FR 72564 | (c)(141)(i)(C).
Motor Vehicle Manufacturers' Obligations
Section 126.431 | Warranty and recall | 12/5/98 | 12/28/99, 64 FR 72564 | (c)(141)(i)(C).
Section 126.432 | Reporting requirements | 12/5/98 | 12/28/99, 64 FR 72564 | (c)(141)(i)(C).
Motor Vehicle Dealer Responsibilities
Section 126.441 | Responsibilities of motor-vehicle dealers | 12/5/98 | 12/28/99, 64 FR 72564 | (c)(141)(i)(C).
Chapter 127 Construction, Modification, Reactivation, and Operation of Sources
Subchapter A. General
Section 127.1 | Purpose | 11/26/94 | 7/30/96, 61 FR 39497 | (c)(110)(i)(C).
Section 127.3 | Operational flexibility | 11/26/94 | 7/30/96, 61 FR 39497 | (c)(110)(i)(C).
Subchapter B. Plan Approval Requirements
Section 127.11 | Plan approval requirements | 11/26/94 | 7/30/96, 61 FR 39497 | (c)(110)(i)(C).
Section 127.11a | Reactivation of sources | 11/26/94 | 7/30/96, 61 FR 39497 | (c)(110)(i)(C).
Section 127.12 | Content of application | 11/26/94 | 7/30/96, 61 FR 39497 | (c)(110)(i)(C).
Section 127.12a | Compliance review | 11/26/94 | 7/30/96, 61 FR 39497 | (c)(110)(i)(C).
Section 127.12b | Plan approval terms and conditions | 11/26/94 | 7/30/96, 61 FR 39497 | (c)(110)(i)(C).
Section 127.12c | Plan approval reporting requirements | 11/26/94 | 7/30/96, 61 FR 39497 | (c)(110)(i)(C).
Section 127.13 | Extensions | 11/26/94 | 7/30/96, 61 FR 39497 | (c)(110)(i)(C).
Section 127.13a | Plan approval changes for cause | 11/26/94 | 7/30/96, 61 FR 39497 | (c)(110)(i)(C).
Section 127.13b | Denial of Plan approval application | 11/26/94 | 7/30/96, 61 FR 39497 | (c)(110)(i)(C).
Section 127.13c | Notice of basis for certain plan approval decisions | 11/26/94 | 7/30/96, 61 FR 39497 | (c)(110)(i)(C).
Section 127.14 | Exemptions | 11/26/94 | 7/30/96, 61 FR 39497 | (c)(110)(i)(C).
Section 127.25 | Compliance requirement | 11/26/94 | 7/30/96, 61 FR 39497 | (c)(110)(i)(C).
Section 127.32 | Transfer of plan approvals | 11/26/94 | 7/30/96, 61 FR 39497 | (c)(110)(i)(C).
Section 127.35 | Maximum achievable control technology standards for hazardous air pollutants | 11/26/94 | 7/30/96, 61 FR 39497 | (c)(110)(i)(C)
Section 127.36 | Health risk-based emission standards and operating practice requirements | 11/26/94 | 7/30/96, 61 FR 39497 | (c)(110)(i)(C).
Section 127.44 | Public Notice | 11/26/94 | 7/30/96, 61 FR 39497 | (c)(110)(i)(C).
Section 127.45 | Contents of notice | 11/26/94 | 7/30/96, 61 FR 39497 | (c)(110)(i)(C).
Section 127.46 | Filing protests | 8/13/83 | 7/27/84, 49 FR 30183 | (c)(60).
Section 127.47 | Consideration of protests | 11/26/94 | 7/30/96, 61 FR 39497 | (c)(110)(i)(C).
Section 127.48 | Conferences and hearings | 8/13/83 | 7/27/84, 49 FR 30183 | (c)(60).
Section 127.49 | Conference or hearing procedure | 11/26/94 | 7/30/96, 61 FR 39497 | (c)(110)(i)(C).
Section 127.50 | Conference or hearing record | 11/26/94 | 7/30/96, 61 FR 39497 | (c)(110)(i)(C).
Section 127.51 | Plan approval disposition | 11/26/94 | 7/30/96, 61 FR 39497 | (c)(110)(i)(C).
Subchapter D. Prevention of Significant Deterioration of Air Quality
Section 127.81 | Purpose | 6/18/83 | 8/21/84, 49 FR 33127 | (c)(57).
Section 127.82 | Scope | 6/18/83 | 8/21/84, 49 FR 33127 | (c)(57).
Section 127.83 | Adoption of Program | 6/18/83 | 8/21/84, 49 FR 33127 | (c)(57).
Subchapter E. New Source Review
Section 127.201 | General requirements | 1/15/94 | 12/9/97, 62 FR 64722 | (c)(107).
Section 127.202 | Effective date | 1/15/94 | 12/9/97, 62 FR 64722 | (c)(107).
Section 127.203 | Facilities subject to special permit requirements | 1/15/94 | 12/9/97, 62 FR 64722 | (c)(107).
Section 127.204 | Emissions subject to this subchapter | 1/15/94 | 12/9/97, 62 FR 64722 | (c)(107).
Section 127.205 | Special permit requirements | 1/15/94 | 12/9/97, 62 FR 64722 | (c)(107).
Section 127.206 | ERC general requirements | 1/15/94 | 12/9/97, 62 FR 64722 | (c)(107).
Section 127.207 | ERC generation and creation | 1/15/94 | 12/9/97, 62 FR 64722 | (c)(107).
Section 127.208 | ERC use and transfer requirements | 1/15/94 | 12/9/97, 62 FR 64722 | (c)(107).
Section 127.209 | ERC registry system | 1/15/94 | 12/9/97; 62 FR 64722 | (c)(107).
Section 127.210 | Offset ratios | 1/15/94 | 12/9/97; 62 FR 64722 | (c)(107).
Section 127.211 | Applicability determination | 1/15/94 | 12/9/97; 62 FR 64722 | (c)(107).
Section 127.212 | Portable facilities | 1/15/94 | 12/9/97; 62 FR 64722 | (c)(107).
Section 127.213 | Construction and demolition | 1/15/94 | 12/9/97; 62 FR 64722 | (c)(107).
Section 127.214 | Exemption | 1/15/94 | 12/9/97; 62 FR 64722 | (c)(107).
Section 127.215 | Reactivation | 1/15/94 | 12/9/97; 62 FR 64722 | (c)(107).
Section 127.216 | Circumvention | 1/15/94 | 12/9/97; 62 FR 64722 | (c)(107).
Section 127.217 | Clean Air Act Titles III-V applicability | 1/15/94 | 12/9/97; 62 FR 64722 | (c)(107).
Subchapter F. Operating Permit Requirements
General
Section 127.401 | Scope | 11/26/94 | 7/30/96; 61 FR 39497 | (c)(110)(i)(C).
Section 127.402 | General provisions | 11/26/94 | 7/30/96; 61 FR 39497 | (c)(110)(i)(C).
Section 127.403 | Permitting of sources operating lawfully without a permit | 11/26/94 | 7/30/96; 61 FR 39497 | (c)(110)(i)(C).
Section 127.404 | Compliance schedule for repermitting | 11/26/94 | 7/30/96; 61 FR 39497 | (c)(110)(i)(C).
Permit Applications
Section 127.411 | Content of applications | 11/26/94 | 7/30/96; 61 FR 39497 | (c)(110)(i)(C).
Section 127.412 | Compliance review forms | 11/26/94 | 7/30/96; 61 FR 39497 | (c)(110)(i)(C).
Section 127.413 | Municipal notification | 11/26/94 | 7/30/96; 61 FR 39497 | (c)(110)(i)(C).
Section 127.414 | Supplemental information | 11/26/94 | 7/30/96; 61 FR 39497 | (c)(110)(i)(C).
Review of Applications
Section 127.421 | Review of Applications | 11/26/94 | 7/30/96; 61 FR 39497 | (c)(110)(i)(C).
Section 127.422 | Denial of permits | 11/26/94 | 7/30/96; 61 FR 39497 | (c)(110)(i)(C).
Section 127.423 | Notice of basis for certain operation permit decisions | 11/26/94 | 7/30/96; 61 FR 39497 | (c)(110)(i)(C).
Section 127.424 | Public notice | 11/26/94 | 7/30/96; 61 FR 39497 | (c)(110)(i)(C).
Section 127.425 | Contents of notice | 11/26/94 | 7/30/96; 61 FR 39497 | (c)(110)(i)(C).
Section 127.426 | Filing protests | 11/26/94 | 7/30/96; 61 FR 39497 | (c)(110)(i)(C).
Section 127.427 | Consideration of protest | 11/26/94 | 7/30/96; 61 FR 39497 | (c)(110)(i)(C).
Section 127.428 | Conferences and hearings | 11/26/94 | 7/30/96; 61 FR 39497 | (c)(110)(i)(C).
Section 127.429 | Conference or hearing procedure | 11/26/94 | 7/30/96; 61 FR 39497 | (c)(110)(i)(C).
Section 127.430 | Conference or hearing record | 11/26/94 | 7/30/96; 61 FR 39497 | (c)(110)(i)(C).
Section 127.431 | Operating permit disposition | 11/26/94 | 7/30/96; 61 FR 39497 | (c)(110)(i)(C).
Operating Permit Conditions
Section 127.441 | Operating permit terms and conditions | 11/26/94 | 7/30/96; 61 FR 39497 | (c)(110)(i)(C).
Section 127.442 | Reporting requirements | 11/26/94 | 7/30/96; 61 FR 39497 | (c)(110)(i)(C).
Section 127.443 | Operating permit requirements | 11/26/94 | 7/30/96; 61 FR 39497 | (c)(110)(i)(C).
Section 127.444 | Compliance requirements | 11/26/94 | 7/30/96; 61 FR 39497 | (c)(110)(i)(C).
Section 127.445 | Operating permit compliance schedules | 11/26/94 | 7/30/96; 61 FR 39497 | (c)(110)(i)(C).
Section 127.446 | Operating permit duration | 11/26/94 | 7/30/96; 61 FR 39497 | (c)(110)(i)(C).
Section 127.447 | Alternate operating scenarios | 11/26/94 | 7/30/96; 61 FR 39497 | (c)(110)(i)(C).
Section 127.448 | Emissions trading at facilities with Federally enforceable emissions cap | 11/26/94 | 7/30/96; 61 FR 39497 | (c)(110)(i)(C).
Section 127.449 | De minimis emission increases | 11/26/94 | 7/30/96; 61 FR 39497 | (c)(110)(i)(C).
Section 127.450 | Administrative operating permit amendments | 11/26/94 | 7/30/96; 61 FR 39497 | (c)(110)(i)(C).
Operating Permit Modifications
Section 127.461 | Operating permit changes for cause | 11/26/94 | 7/30/96; 61 FR 39497 | (c)(110)(i)(C).
Section 127.462 | Minor operating permit modifications | 11/26/94 | 7/30/96; 61 FR 39497 | (c)(110)(i)(C).
Section 127.463 | Operating permit revisions to incorporate applicable standards | 11/26/94 | 7/30/96; 61 FR 39497 | (c)(110)(i)(C).
Section 127.464 | Transfer of operating permits | 11/26/94 | 7/30/96; 61 FR 39497 | (c)(110)(i)(C).
Subchapter H. General Plan Approvals and Operating Permits
General
Section 127.601 | Scope | 11/26/94 | 7/30/96; 61 FR 39494 | (c)(111).
Issuance of General Plan Approvals and General Operating Permits
Section 127.611 | General plan approvals and general operating permits | 11/26/94 | 7/30/96; 61 FR 39494 | (c)(111).
Section 127.612 | Public notice and review period | 11/26/94 | 7/30/96; 61 FR 39494 | (c)(111).
Use of General Plan Approvals and Permits
Section 127.621 | Application for use of general plan approvals and general operating permits | 11/26/94 | 7/30/96; 61 FR 39494 | (c)(111).
Section 127.622 | Compliance with general plan approvals and general operating permits | 11/26/94 | 7/30/96; 61 FR 39494 | (c)(111).
Subchapter I. Plan Approval and Operating Permit Fees
Section 127.701 | General provisions | 11/26/94 | 7/30/96; 61 FR 39497 | (c)(110)(i)(C).
Section 127.702 | Plan approval fees | 11/26/94 | 7/30/96; 61 FR 39497 | (c)(110)(i)(C).
Section 127.703 | Operating permit fees under Subchapter F | 11/26/94 | 7/30/96; 61 FR 39497 | (c)(110)(i)(C).
Section 127.707 | Failure to pay fee | 11/26/94 | 7/30/96; 61 FR 39497 | (c)(110)(i)(C).
Subchapter J. General Conformity
Section 127.801 | Purpose | 11/9/96 | 9/29/97; 62 FR 50870 | (c)(126).
Section 127.802 | Adoption of Standards | 11/9/96 | 9/29/97; 62 FR 50870 | (c)(126).
Chapter 129 Standards for Sources
Miscellaneous Sources
Section 129.11 | Nitric acid plants | 3/20/72 | 5/31/72; 37 FR 10842 | (c)(1).
Section 129.12 | Sulfuric acid plants | 3/20/72 | 5/31/72; 37 FR 10842 | (c)(1).
Section 129.13 | Sulfur recovery plants | 3/20/72 | 5/31/72; 37 FR 10842 | (c)(1).
Appendix A | Allowable emissions, sulfur oxides—sulfur recovery plants | 4/23/94 | 3/23/98; 63 FR 13789 | (c)(129).
Section 129.14 | Open burning operations | 8/9/76 | 8/19/80; 45 FR 55178 | (c)(33).
Section 129.15 | Coke pushing operations | 8/29/77; 12/31/77 | 12/17/79; 44 FR 73031 | (c)(21); correction published 8/22/80 45 FR 56060.
Section 129.16 | Door maintenance, adjustment and replacement practices | 12/12/77 | 7/17/79; 44 FR 41429 | (c)(19).
Section 129.18 | Municipal waste incinerators | 10/27/90 | 6/30/93; 58 FR 34911 | (c)(81).
Sources of VOCs
Section 129.51 | General | 4/10/99 | 6/25/01; 66 FR 33645 | (c)(155).
Section 129.52 | Surface coating processes | 6/10/00 | 7/20/01; 66 FR 37908 | (c)(152).
Section 129.54 | Seasonal operation of auxiliary incineration equipment | 8/3/91 | 8/11/92; 57 FR 35777 | (c)(79).
Section 129.55 | Petroleum refineries—specific sources | 6/20/81 | 1/19/83; 48 FR 2319 | (c)(48).
Section 129.56 | Storage tanks greater than 40,000 gallons capacity containing VOCs | 9/5/98 | 7/26/00; 65 FR 45920 | (c)(147).
Section 129.57 | Storage tanks less than or equal to 40,000 gallons capacity containing VOCs | 6/20/81 | 1/19/83; 48 FR 2319 | (c)(48).
Section 129.58 | Petroleum refineries—fugitive sources | 8/13/83 | 7/27/84; 49 FR 30183 | (c)(60).
Section 129.59 | Bulk gasoline terminals | 8/3/91 | 8/11/92; 57 FR 35777 | (c)(79).
Section 129.60 | Bulk gasoline plants | 8/3/91 | 8/11/92; 57 FR 35777 | (c)(79).
Section 129.61 | Small gasoline storage tank control (Stage I control) | 8/3/91 | 8/11/92; 57 FR 35777 | (c)(79).
Section 129.62 | General standards for bulk gasoline terminals, bulk gasoline plants, and small gasoline storage tanks | 5/23/94 | 12/22/94; 59 FR 65971 | (c)(94).
Section 129.63 | Degreasing operations | 12/22/01 | 1/16/03; 68 FR 2208 | (c)(195)(i)(B)(2).
Section 129.64 | Cutback asphalt paving | 8/13/83 | 7/27/84; 49 FR 30183 | (c)(60).
Section 129.65 | Ethylene production plants | 8/1/79 | 5/20/80 | (c)(22).
Section 129.66 | Compliance schedules and final compliance dates | 5/23/92 | 12/22/94; 59 FR 65971 | (c)(94).
Section 129.67 | Graphic arts systems | 9/5/98 | 7/26/00; 65 FR 45920 | (c)(147).
Section 129.68 | Manufacture of synthesized pharmaceutical products | 8/3/91 | 8/11/92; 57 FR 35777 | (c)(79).
Section 129.69 | Manufacture of pneumatic rubber tires | 5/23/92 | 12/22/94; 59 FR 65971 | (c)(94).
Section 129.71 | Synthetic organic chemical and polymer manufacturing—fugitive sources | 5/23/92 | 12/22/94; 59 FR 65971 | (c)(94).
Section 129.72 | Manufacture of surface active agents | 5/23/92 | 12/22/94; 59 FR 65971 | (c)(94).
Section 129.73 | Aerospace manufacturing and rework | 4/10/99 | 6/25/01; 66 FR 33645 | (c)(155).
Section 129.75 | Mobile equipment repair and refinishing | 11/27/99 | 8/14/00; 65 FR 49501 | (c)(148).
Mobile Sources
Section 129.81 | Organic liquid cargo vessel loading and ballasting | 9/28/91 | 9/28/93; 58 FR 50517 | (c)(84).
Section 129.82 | Control of VOCs from gasoline dispensing facilities (Stage II) | 4/10/99 | 5/21/01; 66 FR 27875 | (c)(153).
Stationary Sources of NOX and VOCs
Section 129.91 | Control of major sources of NOX and VOCs | 6/10/00 | 7/20/01; 66 FR 37908 | (c)(152).
Section 129.92 | RACT proposal requirements | 4/23/94 | 3/23/98; 63 FR 13789 | (c)(129).
Section 129.93 [Except for 129.93(c)(6 & 7)] | Presumptive RAC emission limitations | 4/23/94 | 3/23/98; 63 FR 13789 | (c)(129).
Section 129.94 | NOX RACT emission averaging general requirements | 4/23/94 | 3/23/98; 63 FR 13789 | (c)(129).
Section 129.95 | Recordkeeping | 4/23/94 | 3/23/98; 63 FR 13789 | (c)(129).
Wood Furniture Manufacturing Operations
Section 129.101 | General provisions and applicability | 6/10/00 | 7/20/01; 66 FR 37908 | (c)(152).
Section 129.102 | Emission standards | 6/10/00 | 7/20/01; 66 FR 37908 | (c)(152).
Section 129.103 | Work practice standards | 6/10/00 | 7/20/01; 66 FR 37908 | (c)(152).
Section 129.104 | Compliance procedures and monitoring requirements | 6/10/00 | 7/20/01; 66 FR 37908 | (c)(152).
Section 129.105 | Recordkeeping requirements | 6/10/00 | 7/20/01; 66 FR 37908 | (c)(152).
Section 129.106 | Reporting requirements | 6/10/00 | 7/20/01; 66 FR 37908 | (c)(152).
Section 129.107 | Special provisions for facilities using an emissions averaging approach | 6/10/00 | 7/20/01; 66 FR 37908 | (c)(152).
Chapter 130 Standards for Products
Subchapter A Portable Fuel Containers
Section 130.101 | Applicability | 10/5/02 | 12/8/04; 69 FR 70893 | (c)(229); The SIP-effective date is 2/7/05.
Section 130.102 | Definitions | 10/5/02 | 12/8/04; 69 FR 70893 | (c)(229); The SIP-effective date is 2/7/05.
Section 130.103 | Performance Standards for portable fuel containers and spill-proof spouts | 10/5/02 | 12/8/04; 69 FR 70893 | (c)(229); The SIP-effective date is 2/7/05.
Section 130.104 | Exemptions | 10/5/02 | 12/8/04; 69 FR 70893 | (c)(229); The SIP-effective date is 2/7/05.
Section 130.105 | Innovative products | 10/5/02 | 12/8/04; 69 FR 70893 | (c)(229); The SIP-effective date is 2/7/05.
Section 130.106 | Administrative requirements | 10/5.02 | 12/8/04; 69 FR 70893 | (c)(229); The SIP-effective date is 2/7/05.
Section 130.107 | Variances | 10/5/02 | 12/8/04; 69 FR 70893 | (c)(229); The SIP-effective date is 2/7/05.
Section 130.108 | Test procedures | 10/05/02 | 12/8/04; 69 FR 70893 | (c)(229); The SIP-effective date is 2/7/05.
Subchapter B. Consumer Products
General Provisions
Section 130.201 | Applicability | 10/5/02 | 12/8/04, 69 FR 70895 | (c)(230); The SIP-effective date is 2/7/05.
Section 130.202 | Definitions | 10/5/02 | 12/8/04, 69 FR 70895 | (c)(230); The SIP-effective date is 2/7/05.
Standard
Section 130.211 | Table of standards | 10/5/02 | 12/8/04, 69 FR 70895 | (c)(230); The SIP-effective date is 2/7/05.
Section 130.212 | Products diluted prior to use | 10/5/02 | 12/8/04, 69 FR 70895 | (c)(230); The SIP-effective date is 2/7/05.
Section 130.213 | Products registered under FIFRA | 10/5/02 | 12/8/04, 69 FR 70895 | (c)(230); The SIP-effective date is 2/7/05.
Section 130.214 | Requirements for charcoal lighter materials | 10/5/02 | 12/8/04, 69 FR 70895 | (c)(230); The SIP-effective date is 2/7/05.
Section 130.215 | Requirements for aerosol adhesives | 10/5/02 | 12/8/04, 69 FR 70895 | (c)(230); The SIP-effective date is 2/7/05.
Section 130.216 | Requirements for floor wax strippers | 10/5/02 | 12/8/04, 69 FR 70895 | (c)(230); The SIP-effective date is 2/7/05.
Exemptions
Section 130.331 | Products for shipment and use outside this Commonwealth | 10/5/02 | 12/8/04, 69 FR 70895 | (c)(230); The SIP-effective date is 2/7/05.
Section 130.332 | Antiperspirants and deodorants | 10/5/02 | 12/8/04, 69 FR 70895 | (c)(230); The SIP-effective date is 2/7/05.
Section 130.333 | LVP-VOC | 10/5/02 | 12/8/04, 69 FR 70895 | (c)(230); The SIP-effective date is 2/7/05.
Section 130.334 | Products registered under FIFRA | 10/5/02 | 12/8/04, 69 FR 70895 | (c)(230); The SIP-effective date is 2/7/05.
Section 130.335 | Air fresheners | 10/5/02 | 12/8/04, 69 FR 70895 | (c)(230); The SIP-effective date is 2/7/05.
Section 130.336 | Adhesives | 10/5/02 | 12/8/04, 69 FR 70895 | (c)(230); The SIP-effective date is 2/7/05.
Section 130.337 | Bait station insecticides | 10/5/02 | 12/8/04, 69 FR 70895 | (c)(230); The SIP-effective date is 2/7/05.
Innovative Products
Section 130.351 | Innovative products exemption | 10/5/02 | 12/8/04, 69 FR 70895 | (c)(230); The SIP-effective date is 2/7/05.
Section 130.352 | Request for exemption | 10/5/02 | 12/8/04, 69 FR 70895 | (c)(230); The SIP-effective date is 2/7/05.
Administrative Requirements
Section 130.371 | Code-dating | 10/5/02 | 12/8/04, 69 FR 70895 | (c)(230); The SIP-effective date is 2/7/05.
Section 130.372 | Most restrictive limit | 10/5/02 | 12/8/04, 69 FR 70895 | (c)(230); The SIP-effective date is 2/7/05.
Section 130.373 | Additional labeling requirements for aerosol adhesives | 10/5/02 | 12/8/04, 69 FR 70895 | (c)(230); The SIP-effective date is 2/7/05.
Reporting Requirements
Section 130.391 | Required reporting of information to the Department | 10/5/02 | 12/8/04, 69 FR 70895 | (c)(230); The SIP-effective date is 2/7/05.
Section 130.392 | Confidentiality | 10/5/02 | 12/8/04, 69 FR 70895 | (c)(230); The SIP-effective date is 2/7/05.
Variances
Section 130.411 | Application for variance | 10/5/02 | 12/8/04, 69 FR 70895 | (c)(230); The SIP-effective date is 2/7/05.
Section 130.412 | Variance orders | 10/5/02 | 12/8/04, 69 FR 70895 | (c)(230); The SIP-effective date is 2/7/05.
Section 130.413 | Termination of variance | 10/5/02 | 12/8/04, 69 FR 70895 | (c)(230); The SIP-effective date is 2/7/05.
Section 130.414 | Modification of variance | 10/5/02 | 12/8/04; 69 FR 70895 | (c)(230); The SIP-effective date is 2/7/05.
Test Methods
Section 130.431 | Testing for compliance | 10/5/02 | 12/8/04; 69 FR 70895 | (c)(230); The SIP-effective date is 2/7/05.
ACP for Consumer Products
Section 130.451 | Alternative methods of compliance | 10/5/02 | 12/8/04; 69 FR 70895 | (c)(230); The SIP-effective date is 2/7/05.
Section 130.452 | Exemption | 10/5/02 | 12/8/04; 69 FR 70895 | (c)(230); The SIP-effective date is 2/7/05.
Section 130.453 | Request for exemption | 10/5/02 | 12/8/04; 69 FR 70895 | (c)(230); The SIP-effective date is 2/7/05.
Section 130.454 | Application for an ACP | 10/5/02 | 12/8/04; 69 FR 70895 | (c)(230); The SIP-effective date is 2/7/05.
Section 130.455 | Recordkeeping and availability of requested information | 10/5/02 | 12/8/04; 69 FR 70895 | (c)(230); The SIP-effective date is 2/7/05.
Section 130.456 | Surplus reductions and surplus trading | 10/5/02 | 12/8/04; 69 FR 70895 | (c)(230); The SIP-effective date is 2/7/05.
Section 130.457 | Limited-use surplus reduction credits for early reformulations of ACP products | 10/5/02 | 12/8/04; 69 FR 70895 | (c)(230); The SIP-effective date is 2/7/05.
Section 130.458 | Reconciliation of shortfalls | 10/5/02 | 12/8/04; 69 FR 70895 | (c)(230); The SIP-effective date is 2/7/05.
Section 130.459 | Notification of modifications to an ACP by the responsible ACP party | 10/5/02 | 12/8/04; 69 FR 70895 | (c)(230); The SIP-effective date is 2/7/05.
Section 130.460 | Modifications that require Department preapproval | 10/5/02 | 12/8/04; 69 FR 70895 | (c)(230); The SIP-effective date is 2/7/05.
Section 130.461 | Other modifications | 10/5/02 | 12/8/04; 69 FR 70895 | (c)(230); The SIP-effective date is 2/7/05.
Section 130.462 | Modification of an ACP by the Department | 10/5/02 | 12/8/04; 69 FR 70895 | (c)(230); The SIP-effective date is 2/7/05.
Section 130.463 | Cancellation of an ACP | 10/5/02 | 12/8/04; 69 FR 70895 | (c)(230); The SIP-effective date is 2/7/05.
Section 130.464 | Treatment of information | 10/5/02 | 12/8/04; 69 FR 70895 | (c)(230); The SIP-effective date is 2/7/05.
Section 130.465 | Other applicable requirements | 10/5/02 | 12/8/04; 69 FR 70895 | (c)(230); The SIP-effective date is 2/7/05.
Public Hearing Requirements
Section 130.471 | Public hearings | 10/5/02 | 12/8/04; 69 FR 70895 | (c)(230); The SIP-effective date is 2/7/05.
Subchapter C Architectural and Industrial Maintenance Coatings
Section 130.601 | Applicability | 10/25/03 | 11/23/04; 69 FR 68080 | (c)(227).
Section 130.602 | Definitions | 10/25/03 | 11/23/04; 69 FR 68080 | (c)(227).
Section 130.603 | Standards | 10/25/03 | 11/23/04; 69 FR 68080 | (c)(227).
Section 130.604 | Container labeling requirements | 10/25/03 | 11/23/04; 69 FR 68080 | (c)(227).
Section 130.605 | Reporting requirements | 10/25/03 | 11/23/04; 69 FR 68080 | (c)(227).
Section 130.606 | Application for variance | 10/25/03 | 11/23/04; 69 FR 68080 | (c)(227).
Section 130.607 | Variance orders | 10/25/03 | 11/23/04; 69 FR 68080 | (c)(227).
Section 130.608 | Termination of variance | 10/25/03 | 11/23/04; 69 FR 68080 | (c)(227).
Section 130.609 | Extension, modification or revocation of variance | 10/25/03 | 11/23/04; 69 FR 68080 | (c)(227).
Section 130.610 | Public hearings | 10/25/03 | 11/23/04; 69 FR 68080 | (c)(227).
Section 130.611 | Compliance provisions and test methods | 10/25/03 | 11/23/04; 69 FR 68080 | (c)(227).
Chapter 131 Ambient Air Quality Standards
Section 131.1 | Purpose | 3/20/72 | 5/31/72; 37 FR 10842 | (c)(1).
Section 131.2 | National Ambient Air Quality Standards | 3/20/72 | 5/31/72; 37 FR 10842 | (c)(1).
Section 131.3 | Ambient air quality standards | 8/13/83 | 7/27/84; 49 FR 30183 | (c)(60); Amendment removed a lead standard provision. The remaining standards are not SIP-related.
Section 131.4 | Application for ambient air quality standards | 3/20/72 | 5/31/72; 37 FR 10842 | (c)(1).
Chapter 135 Reporting of Sources
General
Section 135.1 | Defintions | 3/20/72 | 5/31/72; 37 FR 10842 | (c)(1).
Section 135.2 | Applicability [of sources] | 3/20/72 | 5/31/72; 37 FR 10842 | (c)(1).
Section 135.3 | Reporting | 3/20/72 | 5/31/72; 37 FR 10842 | (c)(1).
Section 135.4 | Reporting forms and guides | 3/20/72 | 5/31/72; 37 FR 10842 | (c)(1).
Section 135.5 | Recordkeeping | 10/10/92 | 1/12/95; 60 FR 2081 | (c)(96).
Emission Statements
Section 135.21 | Emission statements | 10/10/92 | 1.12.95; 60 FR 2081 | (c)(96).
Chapter 137 Air Pollution Episodes
General
Section 137.1 | Purpose | 1/28/72 | 5.31.72; 37 FR 10842 | (c)(1).
Section 137.2 | Monitoring facilities | 1/28/72 | 5.31.72; 37 FR 10842 | (c)(1).
Section 137.3 | Episode criteria | 6/9/90 | 6/16/93; 58 FR 33203 | (c)(75).
Section 137.4 | Standby plans | 12/27/97 | 6/11/02; 67 FR 39854 | (c)(189).
Section 137.5 | Implementation of emission reduction procedures | 1/28/72 | 5/31/72; 37 FR 10842 | (c)(1).
Level Actions
Section 137.11 | Forecast level actions | 1/28/72 | 5/31/72; 37 FR 10842 | (c)(1).
Section 137.12 | Alert level actions | 1/28/72 | 5/31/72; 37 FR 10842 | (c)(1).
Section 137.13 | Warning level actions | 1/28/72 | 5/31/72; 37 FR 10842 | (c)(1).
Section 137.14 | Emergency level actions | 1/28/72 | 5/31/72; 37 FR 10842 | (c)(1).
Chapter 139 Sampling and Testing
Subchapter A. Sampling and Testing Methods and Procedures
General
Section 139.1 | Sampling by facilities | 3/20/72 | 5/31/72; 37 FR 10842 | (c)(1).
Section 139.2 | Sampling by others | 3/20/72 | 5/31/72; 37 FR 10842 | (c)(1).
Section 139.3 | General requirements | 8/1/79 | 8/8/79; 44 FR 46465 | (c)(20); Correction published 1/23/80 (45 FR 5303).
Section 139.4 | References | 6/10/00 | 7/20/01; 66 FR 37908 | (c)(152).
Section 139.5 | Revisions to the source testing manual and continuous source monitoring manual | 11/26/94 | 7/30/96; 61 FR 39497 | (c)(110)(i)(D).
Stationary Sources
Section 139.11 | General requirements | 3/20/72 | 5/31/72; 37 FR 10842 | (c)(1).
Section 139.12 | Emissions of particulate matter | 3/7/98 | 6/11/02; 67 FR 39854 | (c)(189).
Section 139.13 (Except Provisions applicable to H2S and TRS) | Emissions of SO2, H2S, TRS and NO2 | 11/26/94 | 7/30/96; 61 FR 39497 | (c)(110)(i)(D).
Section 139.14 | Emissions of VOCs | 6/10/00 | 7/20/01; 66 FR 37908 | (c)(152).
Section 139.16 | Sulfur in fuel oil | 8/13/83 | 7/27/84; 49 FR 30183 | (c)(60).
Section 139.17 | General requirements | 6/20/81 | 1/19/83; 48 FR 2319 | (c)(48).
Section 139.18 | Calculation of alternative opacity limitations | 6/20/81 | 1/19/83; 48 FR 2319 | (c)(48).
Ambient Levels of Air Contaminants
Section 139.31 | General | 3/20/72 | 5/31/72; 37 FR 10842 | (c)(1).
Section 139.32 | Sampling and analytical procedures | 11/26/94 | 7/30/96; 61 FR 39497 | (c)(110)(i)(D).
Section 139.33 | Incorporation of Federal procedures | 3/20/72 | 5/31/72; 37 FR 10842 | (c)(1).
Subchapter B. Monitoring Duties of Certain Sources
General
Section 139.51 | Purpose | 8/29/77 | 7/17/79; 44 FR 41429 | (c)(19).
Section 139.52 | Monitoring methods and techniques | 8/29/77 | 7/17/79; 44 FR 41429 | (c)(19).
Section 139.53 | Filing monitoring reports | 8/31/83 | 7/27/84; 49 FR 30183 | (c)(60).
Subchapter C. Requirements for Continuous In-Stack Monitoring for Stationary Sources
Section 139.101 | General Requirements | 3/7/98 | 6/11/02; 67 FR 39854 | (c)(189).
Section 139.102 | References | 11/26/94 | 7/30/96; 61 FR 39497 | (c)(110)(i)(D).
Section 139.103 | Opacity monitoring requirements | 11/26/94 | 7/30/96; 61 FR 39497 | (c)(110)(i)(D).
Section 139.111 | Waste incinerator monitoring requirements | 12/27/97 | 6/11/02; 67 FR 39854 | (c)(189).
Chapter 141 Alternate Standards
Section 141.1 | Imposing alternate standards authorized | 5/14/88 | 9/17/92; 57 FR 42894 | (c)(73).
Chapter 145 Interstate Pollution Transport Reduction
Subchapter A. NOX Budget Trading Program
General Provisions
Section 145.1 | Purpose | 9/23/00 | 8/21/01; 66 FR 43795 | (c)(168).
Section 145.2 | Definitions | 9/23/00 | 8/21/01; 66 FR 43795 | (c)(168).
Section 145.3 | Measurements, abbreviations and acronyms | 9/23/00 | 8/21/01; 66 FR 43795 | (c)(168).
Section 145.4 | Applicability | 9/23/00 | 8/21/01; 66 FR 43795 | (c)(168).
Section 145.5 | Retired unit exemption | 9/23/00 | 8/21/01; 66 FR 43795 | (c)(168).
Section 145.6 | Standard requirements | 9/23/00 | 8/21/01; 66 FR 43795 | (c)(168).
Section 145.7 | Computation of time | 9/23/00 | 8/21/01; 66 FR 43795 | (c)(168).
NOx Account
Section 145.10 | Authorization and responsibilities of the NOX authorized account representative | 9/23/00 | 8/21/01; 66 FR 43795 | (c)(168).
Section 145.11 | Alternate NOX authorized account representative | 9/23/00 | 8/21/01; 66 FR 43795 | (c)(168).
Section 145.12 | Changing the NOX authorized account representative; and changes in the Alternate NOX authorized account representative; changes in the owners and operators | 9/23/00 | 8/21/01; 66 FR 43795 | (c)(168).
Section 145.13 | Account certificate of representation | 9/23/00 | 8/21/01; 66 FR 43795 | (c)(168).
Section 145.14 | Objections concerning the NOX authorized account representative | 9/23/00 | 8/21/01; 66 FR 43795 | (c)(168).
Compliance Certification
Section 145.30 | Compliance certification report | 9/23/00 | 8/21/01; 66 FR 43795 | (c)(168).
Section 145.31 | Department's action on compliance certifications | 9/23/00 | 8/21/01; 66 FR 43795 | (c)(168).
NOx Allowance Allocations
Section 145.40 | State Trading Program budget | 9/23/00 | 8/21/01; 66 FR 43795 | (c)(168).
Section 145.41 | Timing Requirements for NOX allowance allocations | 9/23/00 | 8/21/01; 66 FR 43795 | (c)(168).
Section 145.42 | NOX Allowance allocations | 9/23/00 | 8/21/01; 66 FR 43795 | (c)(168).
Section 145.43 | Compliance supplement pool | 9/23/00 | 8/21/01; 66 FR 43795 | (c)(168).
Accounting Process for Deposit Use and Transfer of Allowances
Section 145.50 | NOX Allowance Tracking System accounts | 9/23/00 | 8/21/01; 66 FR 43795 | (c)(168).
Section 145.51 | Establishment of accounts | 9/23/00 | 8/21/01; 66 FR 43795 | (c)(168).
Section 145.52 | NOX Allowance Tracking System responsibilities of NOX authorized account representative | 9/23/00 | 8/21/01; 66 FR 43795 | (c)(168).
Section 145.53 | Recordation of NOX allowance allocations | 9/23/00 | 8/21/01; 66 FR 43795 | (c)(168).
Section 145.54 | Compliance | 9/23/00 | 8/21/01; 66 FR 43795 | (c)(168).
Section 145.55 | Banking | 9/23/00 | 8/21/01; 66 FR 43795 | (c)(168).
Section 145.56 | Account error | 9/23/00 | 8/21/01; 66 FR 43795 | (c)(168).
Section 145.57 | Closing of general accounts | 9/23/00 | 8/21/01; 66 FR 43795 | (c)(168).
NOX Allowance Transfers
Section 145.60 | Submission of NOX allowance transfers | 9/23/00 | 8/21/01; 66 FR 43795 | (c)(168).
Section 145.61 | NOX transfer recordation | 9/23/00 | 8/21/01; 66 FR 43795 | (c)(168).
Section 145.62 | Notification | 9/23/00 | 8/21/01; 66 FR 43795 | (c)(168).
Recording and Recordkeeping Requirements
Section 145.70 | General monitoring requirements | 9/23/00 | 8/21/01; 66 FR 43795 | (c)(168).
Section 145.71 | Initial certification and recertification procedures | 9/23/00 | 8/21/01; 66 FR 43795 | (c)(168).
Section 145.72 | Out of control periods | 9/23/00 | 8/21/01; 66 FR 43795 | (c)(168).
Section 145.73 | Notifications | 9/23/00 | 8/21/01; 66 FR 43795 | (c)(168).
Section 145.74 | Recordkeeping and reporting | 9/23/00 | 8/21/01; 66 FR 43795 | (c)(168).
Section 145.75 | Petitions | 9/23/00 | 8/21/01; 66 FR 43795 | (c)(168).
Section 145.76 | Additional requirements to provide heat input data | 9/23/00 | 8/21/01; 66 FR 43795 | (c)(168).
OPT-In Process
Section 145.80 | Applicability for opt-in sources | 9/23/00 | 8/21/01; 66 FR 43795 | (c)(168).
Section 145.81 | Opt-in source general provisions | 9/23/00 | 8/21/01; 66 FR 43795 | (c)(168).
Section 145.82 | NOX authorized account representatives for opt-in sources | 9/23/00 | 8/21/01; 66 FR 43795 | (c)(168).
Section 145.83 | Applying for a NOX budget opt-in approval | 9/23/00 | 8/21/01; 66 FR 43795 | (c)(168).
Section 145.84 | Opt-in process | 9/23/00 | 8/21/01; 66 FR 43795 | (c)(168).
Section 145.85 | NOX budget opt-in application contents | 9/23/00 | 8/21/01; 66 FR 43795 | (c)(168).
Section 145.86 | Opt-in source withdrawal from NOX Budget Trading Program | 9/23/00 | 8/21/01; 66 FR 43795 | (c)(168).
Section 145.87 | Opt-in unit change in regulatory status | 9/23/00 | 8/21/01; 66 FR 43795 | (c)(168).
Section 145.88 | NOX allowance allocations to opt-in units | 9/23/00 | 8/21/01; 66 FR 43795 | (c)(168).
Emission Reduction Credit Provisions
Section 145.90 | Emission reduction credit provisions | 9/23/00 | 8/21/01; 66 FR 43795 | (c)(168).
Interstate Pollution Transport Reduction Requirements
Section 145.100 | Applicability to upwind states | 9/23/00 | 8/21/01; 66 FR 43795 | (c)(168).
Title 67. Transportation
Part I. Department of Transportation
Subpart A. Vehicle Code Provisions
Article VII. Vehicle Characteristics
Chapter 175 Vehicle Equipment and Inspection
Subchapter A. General Provisions
175.2 | Definitions | 9/27/97 | 6/17/99; 64 FR 32411 | (c)(139); Definition of “Temporary inspection approval indicator”.
175.11 | Coordination of safety and emission inspection | 9/27/97 | 6/17/99; 64 FR 32411 | (c)(139).
Subchapter B. Official Inspection Stations
175.29(f)(4) | Obligations and responsibilities of stations | 9/27/97 | 6/17/99; 64 FR 32411 | (c)(139).
Subchapter C. Certificate of Inspection
175.41(a), (b)(3), (c), (d)(2)(ii), (d)(2)(iii), (e)(5), (f)(4) | Procedure | 9/27/97 | 6/17/99; 64 FR 32411 | (c)(139).
175.42 | Recording inspection | 9/27/97 | 6/17/99; 64 FR 32411 | (c)(139).
175.43 | Security | 9/27/97 | 6/17/99; 64 FR 32411 | (c)(139).
175.44 | Ordering certificates of inspection | 9/27/97 | 6/17/99; 64 FR 32411 | (c)(139).
175.45 | Violation of use of certificate of inspection | 9/27/97 | 6/17/99; 64 FR 32411 | (c)(139).
Chapter 177 Enhanced Emission Inspection Program
Subchapter A. General Provisions
177.1 | Purpose | 10/1/97 | 6/17/99; 64 FR 32411 | (c)(139).
177.2 | Application of equipment rules | 10/1/97 | 6/17/99; 64 FR 32411 | (c)(139).
177.3 | Definitions | 9/27/97 | 6/17/99; 64 FR 32411 | (c)(139).
Implementation of Enhanced Emission Inspection Program
177.21 | Cessation of current vehicle emission inspection program | 9/27/97 | 6/17/99; 64 FR 32411 | (c)(139).
177.22 | Commencement date | 9/27/97 | 6/17/99; 64 FR 32411 | (c)(139).
177.23 | Notification of requirement for emission inspection | 9/27/97 | 6/17/99; 64 FR 32411 | (c)(139).
177.24 | Program evaluation | 9/27/97 | 6/17/99; 64 FR 32411 | (c)(139).
I/M Program
177.51 | Program requirements | 9/27/97 | 6/17/99; 64 FR 32411 | (c)(139).
177.52 | Emission inspection prerequisites | 9/27/97 | 6/17/99; 64 FR 32411 | (c)(139).
177.53 | Vehicle inspection process | 10/1/97 | 6/17/99; 64 FR 32411 | (c)(139).
Subchapter B. Subject Vehicles
177.101 | Subject vehicles | 10/1/97 | 6/17/99; 64 FR 32411 | (c)(139).
177.102 | Inspection of vehicles reentering this Commonwealth | 9/27/97 | 6/17/99; 64 FR 32411 | (c)(139).
177.103 | Used vehicles after sale or resale | 9/27/97 | 6/17/99; 64 FR 32411 | (c)(139).
177.104 | Vehicles registered in nondesignated areas or other states | 9/27/97 | 6/17/99; 64 FR 32411 | (c)(139).
177.105 | Vehicles requiring emission inspection due to change of address | 9/27/97 | 6/17/99; 64 FR 32411 | (c)(139).
177.106 | Repair technician training and certification | 9/27/97 | 6/17/99; 64 FR 32411 | (c)(139).
Subchapter C. Emission Test Procedures and Emission Standards
General
177.201 | General requirements | 9/27/97 | 6/17/99; 64 FR 32411 | (c)(139).
177.202 | Emission test equipment | 9/27/97 | 6/17/99; 64 FR 32411 | (c)(139).
177.203 | Test procedures | 9/27/97 | 6/17/99; 64 FR 32411 | (c)(139).
177.204 | Emission standards | 9/27/97 | 6/17/99; 64 FR 32411 | (c)(139).
Recall Provisions
177.231 | requirements regarding manufacturer recall notices | 9/27/97 | 6/17/99; 64 FR 32411 | (c)(139).
177.232 | Compliance with recall notices | 9/27/97 | 6/17/99; 64 FR 32411 | (c)(139).
177.233 | Failure to comply | 9/27/97 | 6/17/99; 64 FR 32411 | (c)(139).
Emission Inspection Test Report
177.251 | Record of test results | 9/27/97 | 6/17/99; 64 FR 32411 | (c)(139).
177.252 | Emission inspection test report | 9/27/97 | 6/17/99; 64 FR 32411 | (c)(139).
177.253 | Responsibility of the station owner for vehicles which fail the I/M test | 9/27/97 | 6/17/99; 64 FR 32411 | (c)(139).
Retest
177.271 | Procedure | 9/27/97 | 6/17/99; 64 FR 32411 | (c)(139).
177.272 | Prerequisites | 9/27/97 | 6/17/99; 64 FR 32411 | (c)(139).
177.273 | Content of repair data form | 9/27/97 | 6/17/99; 64 FR 32411 | (c)(139).
177.274 | Retest fees | 9/27/97 | 6/17/99; 64 FR 32411 | (c)(139).
Issuance of Waiver
177.281 | Issuance of waiver | 9/27/97 | 6/17/99; 64 FR 32411 | (c)(139).
177.282 | Annual adjustment of minimum waiver expenditure for enhanced emission inspection areas | 9/27/97 | 6/17/99; 64 FR 32411 | (c)(139).
Certificates of Emission Inspection Procedures
177.291 | Certificates of emission inspection procedures | 9/27/97 | 6/17/99; 64 FR 32411 | (c)(139).
177.292 | Recording inspection | 9/27/97 | 6/17/99; 64 FR 32411 | (c)(139).
On-Road Testing
177.301 | Authorization to conduct on-road emission testing | 9/27/97 | 6/17/99; 64 FR 32411 | (c)(139).
177.302 | On-road testing devices | 9/27/97 | 6/17/99; 64 FR 32411 | (c)(139).
177.304 | Failure of on-road emission test | 9/27/97 | 6/17/99; 64 FR 32411 | (c)(139).
177.305 | Failure to produce proof of correction of on-road emission test failure | 9/27/97 | 6/17/99; 64 FR 32411 | (c)(139).
Subchapter D. Official Emission Inspection Station Requirements
General
177.401 | Appointment | 9/27/97 | 6/17/99; 64 FR 32411 | (c)(139).
177.402 | Application | 9/27/97 | 6/17/99; 64 FR 32411 | (c)(139).
177.403 | Approval of emission inspection station | 9/27/97 | 6/17/99; 64 FR 32411 | (c)(139).
177.404 | Required certificates and station signs | 9/27/97 | 6/17/99; 64 FR 32411 | (c)(139).
177.405 | Emission inspection areas | 9/27/97 | 6/17/99; 64 FR 32411 | (c)(139).
177.406 | Tools and equipment | 9/27/97 | 6/17/99; 64 FR 32411 | (c)(139).
177.407 | Hours of operation | 9/27/97 | 6/17/99; 64 FR 32411 | (c)(139).
177.408 | Certified emission inspectors | 9/27/97 | 6/17/99; 64 FR 32411 | (c)(139).
Obligations and Responsibilities of Station Owners/Agents
177.421 | Obligations and responsibilities of station owners/agents | 9/27/97 | 6/17/99; 64 FR 32411 | (c)(139).
177.422 | Commonwealth basic and enhanced emission inspection stations | 9/27/97 | 6/17/99; 64 FR 32411 | (c)(139).
177.423 | Fleet basic and enhanced emission inspection stations | 9/27/97 | 6/17/99; 64 FR 32411 | (c)(139).
177.424 | General emission inspection stations | 9/27/97 | 6/17/99; 64 FR 32411 | (c)(139).
177.425 | Security | 9/27/97 | 6/17/99; 64 FR 32411 | (c)(139).
177.426 | Ordering certificates of emission inspection | 9/27/97 | 6/17/99; 64 FR 32411 | (c)(139).
177.427 | Violations of use of certificate of emission inspection | 9/27/97 | 6/17/99; 64 FR 32411 | (c)(139).
Quality Assurance
177.431 | Quality assurance | 9/27/97 | 6/17/99; 64 FR 32411 | (c)(139).
Subchapter E. Equipment Manufacturers' and Contractors' Requirements and Obligations
Equipment Manufacturers' Requirements
177.501 | Equipment approval procedures | 9/27/97 | 6/17/99; 64 FR 32411 | (c)(139).
177.502 | Service commitment | 9/27/97 | 6/17/99; 64 FR 32411 | (c)(139).
177.503 | Performance commitment | 9/27/97 | 6/17/99; 64 FR 32411 | (c)(139).
177.504 | Revocation of approval | 9/27/97 | 6/17/99; 64 FR 32411 | (c)(139).
Contractor Obligations
177.521 | Contractor obligations and responsibilities | 9/27/97 | 6/17/99; 64 FR 32411 | (c)(139).
Subchapter F. Schedule of Penalties and Hearing Procedure
Schedule of Penalties and Suspensions
177.602 | Schedule of penalties for emission inspection stations | 9/27/97 | 6/17/99; 64 FR 32411 | (c)(139).
177.603 | Schedule of penalties for emission inspectors | 9/27/97 | 6/17/99; 64 FR 32411 | (c)(139).
Schedule of Penalties for Certified Repair Technicians
177.605 | Subsequent violations | 9/27/97 | 6/17/99; 64 FR 32411 | (c)(139).
177.606 | Multiple violations | 9/27/97 | 6/17/99; 64 FR 32411 | (c)(139).
Departmental Hearing Procedure
177.651 | Notice of alleged violation and opportunity for a Department hearing | 9/27/97 | 6/17/99; 64 FR 32411 | (c)(139).
177.652 | Official documents | 9/27/97 | 6/17/99; 64 FR 32411 | (c)(139).
Restoration After Suspension
177.671 | Restoration of certification of an emission inspector after suspension | 9/27/97 | 6/17/99; 64 FR 32411 | (c)(139).
177.672 | Restoration of certification of an emission inspection station after suspension | 9/27/97 | 6/17/99; 64 FR 32411 | (c)(139).
177.673 | Restoration of certification of certified repair technician after suspension | 9/27/97 | 6/17/99; 64 FR 32411 | (c)(139).
Registration Recall Procedure for Violation of §§ 177.301-177.305 (Relating to On-Road Resting)
177.691 | Registration Recall Committee | 9/27/97 | 6/17/99; 64 FR 32411 | (c)(139).
Appendix A | Acceleration Simulation Mode: Pennsylvania Procedures, Standards, Equipment Specifications and Quality Control Requirements | 9/27/97 | 6/17/99; 64 FR 32411 | (c)(139).
Appendix B | Department Procedures and Specifications | 9/27/97 | 6/17/99; 64 FR 32411 | (c)(139).

(2) EPA-Approved Allegheny County Health Department (ACHD) Regulations
Article XX or XXI citation | Title/subject | Effective date | EPA approval date | Additional explanation/§ 52.2063 citation
Part A—General
2101.01 | Short Titles | 10/20/95 | 11/14/02; 67 FR 68935 | In SIP at 52.2020(c)(92); citation change only at (c)(192).
2101.02.a, .02.c | Declaration of Policy and Purpose | 10/20/95 | 11/14/02; 67 FR 68935 | (c)(192).
2101.03 | Effective Date and Repealer | 10/20/95 | 11/14/02; 67 FR 68935 | In SIP at (c)(92); citation change only at (c)(192).
2101.04 | Existing Orders | 10/20/95 | 11/14/02; 67 FR 68935 | (c)(192).
2101.05 | Existing Permits and Licenses | 3/31/98 | 8/30/04; 69 FR 52831 | 52.2420(c)(209).
2101.06 | Construction and Interpretation | 10/20/95 | 11/14/02; 67 FR 68935 | (c)(192).
2101.07 (Except paragraphs .07.c.2 and c.8) | Administration and Organization | 10/20/95 | 11/14/02; 67 FR 68935 | (c)(192).
2101.10 | Ambient Air Quality Standards (Except: PM10-County & Free silica portion; Pb (1-hr & 8-hr avg.); settled particulates, beryllium, sulfates, fluorides, and hydrogen sulfide) | 10/20/95 | 11/14/02; 67 FR 68935 | (c)(192).
2101.11 | Prohibition of Air Pollution | 10/20/95 | 11/14/02; 67 FR 68935 | (c)(192).
2101.12 | Interstate Air Pollution | 10/20/95 | 11/14/02; 67 FR 68935 | (c)(192).
2101.13 | Nuisances | 10/20/95 | 11/14/02; 67 FR 68935 | (c)(192).
2101.14 | Circumvention | 10/20/95 | 11/14/02; 67 FR 68935 | (c)(192).
2101.20 | Definitions | 10/20/95 | 11/14/02; 67 FR 68935 | (c)(192).
2101.20 | Definitions related to gasoline volatility | 5/15/98 9/1/99 | 4/17/01; 66 FR 19724 | (c)(151).
Part B—Permits Generally
2102.01 | Certification | 10/20/95 | 11/14/02; 67 FR 68935 | (c)(192).
2102.02 | Applicability | 10/20/95 | 11/14/02; 67 FR 68935 | (c)(192).
2102.03.a through .k | Permits Generally | 10/20/95 | 11/14/02; 67 FR 68935 | (c)(192).
2102.04 | Installation Permits | 10/20/95 | 11/14/02; 67 FR 68935 | (c)(192).
2102.05 | Installation Permits for New and Modified Major Sources | 10/20/95 | 11/14/02; 67 FR 68935 | (c)(192).
2102.06 | Major Sources Locating in or Impacting a Nonattainment Area | 10/20/95 | 11/14/02; 67 FR 68935 | (c)(192).
2102.08 | Emission Offset Registration | 10/20/95 | 11/14/02; 67 FR 68935 | (c)(192).
2102.10 | Installation Permit Application and Administration Fees | 10/20/95 | 11/14/02; 67 FR 68935 | (c)(192).
Part C—Operating Permits
2103.01 | Transition | 10/20/95 | 8/30/04; 69 FR 52831 | (c)(209).
Subpart 1—Operating Permits (All Major and Minor Permits)
2103.10.a.,b | Applicability, Prohibitions, Records | 10/20/95 | 11/14/02; 67 FR 68935 | (c)(192).
2103.11 | Applications | 10/20/95 | 8/30/04; 69 FR 52831 | (c)(209).
2103.12 | Issuance, Standard Conditions | 3/31/98 | 8/30/04; 69 FR 52831 | (c)(209).
2103.13 | Expiration, Renewals, Reactivation | 10/20/95 | 8/30/04; 69 FR 52831 | (c)(209).
2103.14 | Revisions, Amendments, Modifications | 1/12/01 | 8/30/04; 69 FR 52831 | (c)(209).
2103.15 | Reopenings, Revocations | 10/20/95 | 8/30/04; 69 FR 52831 | (c)(209).
Subpart 2—Additional Requirements for Major Permits
2103.20.b.4 | Applicability, Prohibitions, Records | 10/20/95 | 11/14/02; 67 FR 68935 | (c)(192).
Part D—Pollutant Emission Standards
2104.01 | Visible Emissions | 10/20/95 | 11/14/02; 67 FR 68935 | (c)(192).
2104.02 | Particulate Mass Emissions | 8/15/97 | 6/12/98; 63 FR 32126 | (c)(133)(i)(B)(1); Citation changes approved on 11/12/02 (67 FR 68935) at (c)(192).
2104.03 | Sulfur Oxide Emissions | 7/10/03 | 7/21/04; 69 FR 43522 | (c)(216)(i)(C).
2104.05 | Materials Handling | 10/20/95 | 11/14/02; 67 FR 68935 | (c)(192).
2104.06 | Violations | 10/20/95 | 11/14/02; 67 FR 68935 | (c)(192).
2104.07 | Stack Heights | 10/20/95 | 11/14/02; 67 FR 68935 | (c)(192).
Part E—Source Emission and Operating Standards
2105.01 | Equivalent Compliance Techniques | 10/20/95 | 11/14/02; 67 FR 68935 | (c)(192).
2105.02 | Other Requirements Not Affected | 10/20/95 | 11/14/02; 67 FR 68935 | (c)(192).
2105.03 | Operation and Maintenance | 10/20/95 | 11/14/02; 67 FR 68935 | (c)(192).
2105.04 | Temporary Shutdown of Incineration Equipment | 10/20/95 | 11/14/02; 67 FR 68935 | (c)(192).
2105.06 | Major Sources of Nitrogen Oxides and Volatile Organic Compounds | 10/20/95 | 10/07/02; 67 FR 62389 | (c)(157).
Subpart 1—VOC Sources
2105.10 | Surface Coating Processes | 10/20/95 | 11/14/02; 67 FR 68935 | (c)(192)
2105.11 | Graphic Arts Systems | 10/20/95 | 11/14/02; 67 FR 68935 | (c)(192)
2105.12 | Volatile Organic Compound Storage Tanks | 10/20/95 | 11/14/02; 67 FR 68935 | (c)(192)
2105.13 | Gasoline Loading Facilities | 10/20/95 | 11/14/02; 67 FR 68935 | (c)(192).
2105.14 | Gasoline Dispensing Facilities | 10/20/95 | 11/14/02; 67 FR 68935 | (c)(192).
2105.15 | Degreasing Operations | 10/20/95 | 11/14/02; 67 FR 68935 | (c)(192).
2105.16 | Cutback Asphalt Paving | 10/20/95 | 11/14/02; 67 FR 68935 | (c)(192).
2105.17 | Ethylene Production Processes | 10/20/95 | 11/14/02; 67 FR 68935 | (c)(192).
Article XX Section 532 | Dry Cleaning Facilities | 1/1/82 | 1/21/83; 48 FR 2768 | (c)(49).
2105.19 | Synthetic Organic Chemical & Polymer Manufacturing—Fugitive Sources | 10/20/95 | 11/14/02; 67 FR 68935 | (c)(192).
Subpart 2—Slag, Coke, and Miscellaneous Sulfur Sources
2105.20 | Slag Quenching | 10/20/95 | 11/14/02; 67 FR 68935 | (c)(192).
2105.21 | Coke Ovens and Coke Oven Gas | 8/15/97 | 6/12/98; 63 FR 32126 | (c)(133); 1. EPA approved revisions effective 7/11/95 on 9/8/98 (63 FR 47434) at (c)(135). 2. EPA approved revisions effective 10/20/95 on 11/14/02 (67 FR 68935) at (c)(192).
2105.22 | Miscellaneous Sulfur Emitting Processes | 10/20/95 | 11/14/02; 67 FR 68935 | (c)(192).
Subpart 3—Incineration and Combustion Sources
2105.30 (except paragraphs .b.3 and .f) | Incinerators | 10/20/95 | 11/14/02; 67 FR 68935 | (c)(192); Section 2105.30.f. is Federally enforceable as part of the applicable section 111(d) plan.
Subpart 4—Miscellaneous Fugitive Sources
2105.40 | Permit Source Premises | 10/20/95 | 11/14/02; 67 FR 68935 | (c)(192).
2105.41 | Non-Permit Premises | 10/20/95 | 11/14/02; 67 FR 68935 | (c)(192).
2105.42 | Parking Lots and Roadways | 10/20/95 | 11/14/02; 67 FR 68935 | (c)(192).
2105.43 | Permit Source Transport | 10/20/95 | 11/14/02; 67 FR 68935 | (c)(192).
2105.44 | Non-Permit Source Transport | 10/20/95 | 11/14/02; 67 FR 68935 | (c)(192).
2105.45 | Construction and Land Clearing | 10/20/95 | 11/14/02; 67 FR 68935 | (c)(192).
2105.46 | Mining | 10/20/95 | 11/14/02; 67 FR 68935 | (c)(192).
2105.47 | Demolition | 10/20/95 | 11/14/02; 67 FR 68935 | (c)(192).
2105.48 | Areas Subject to Sections 2105.40 Through 2105.47 | 10/20/95 | 11/14/02; 67 FR 68935 | (c)(192).
2105.49.a, .b | Fugitive Emissions | 10/20/95 | 11/14/02; 67 FR 68935 | (c)(192).
Subpart 5—Open Burning and Abrasive Blasting Sources
2105.50 (except paragraph .50.d) | Open Burning | 10/20/95 | 11/14/02; 67 FR 68935 | (c)(192).
Article XX, Section 533 | Abrasive Blasting | 10/9/86 | 10/19/87; 51 FR 38758 | (c)(69).
Subpart 7—Miscellaneous VOC Sources
2105.70 | Petroleum Refineries | 10/20/95 | 11/14/02; 67 FR 68935 | (c)(192).
2105.71 | Pharmaceutical Products | 10/20/95 | 11/14/02; 67 FR 68935 | (c)(192).
2105.72 | Manufacturer of Pneumatic Rubber Tires | 10/20/95 | 11/14/02; 67 FR 68935 | (c)(192).
Subpart 9—Transportation Related Sources
2105.90 | Gasoline Volatility | 5/15/98 9/1/99 | 4/17/01; 66 FR 19724 | (c)(151).
Part F—Air Pollution Episodes
2106.01 | Air Pollution Episode System | 10/20/95 | 11/14/02; 67 FR 68935 | (c)(192).
2106.02 | Air Pollution Source Curtailment Plans | 10/20/95 | 11/14/02; 67 FR 68935 | (c)(192).
2106.03 | Episode Criteria | 10/20/95 | 11/14/02; 67 FR 68935 | (c)(192).
2106.04 | Episode Actions | 10/20/95 | 11/14/02; 67 FR 68935 | (c)(192).
2106.05 | USX-Clairton Works PM-10 Self Audit Emergency Action Plan | 8/15/97 | 6/12/98; 63 FR 32126 | (c)(133)(i)(B)(3).
Part G—Methods
2107.01 | General | 10/20/95 | 1/14/02; 67 FR 68935 | (c)(192).
2107.02 | Particulate Matter | 10/20/95 | 11/14/02; 67 FR 68935 | (c)(192).
2107.03 | Sulfur Oxides | 10/20/95 | 11/14/02; 67 FR 68935 | (c)(192).
2107.04 (except paragraph .04.h) | Volatile Organic Compounds | 10/20/95 | 11/14/02; 67 FR 68935 | (c)(192).
2107.05 | Nitrogen Oxides | 10/20/95 | 11/14/02; 67 FR 68935 | (c)(192).
2107.06 | Incinerator Temperatures | 10/20/95 | 11/14/02; 67 FR 68935 | (c)(192).
2107.07 | Coke Oven Emissions | 10/20/95 | 11/14/02; 67 FR 68935 | (c)(192).
2107.08 | Coke Oven Gas | 10/20/95 | 11/14/02; 67 FR 68935 | (c)(192).
2107.10 | Sulfur Content of Coke | 10/20/95 | 11/14/02; 67 FR 68935 | (c)(192).
2107.11 | Visible Emissions | 10/20/95 | 11/14/02; 67 FR 68935 | (c)(192).
2107.15 | Gasoline Volatility and RFG | 5/15/98 | 4/17/01; 66 FR 19724 | (c)(151).
2107.20.c, .g through .j, .m and .n | Ambient Measurements | 10/20/95 | 11/14/02; 67 FR 68935 | (c)(192).
Part H—Reporting, Testing & Monitoring
2108.01 | Reports Required | 10/20/95 | 11/14/02; 67 FR 68935 | (c)(192).
2108.01.a. | Termination of Operation | 10/20/95 | 11/14/02; 67 FR 68935 | (c)(192).
2108.01.b | Shutdown of Control Equipment | 10/20/95 | 11/14/02; 67 FR 68935 | (c)(192).
2108.01.c | Breakdowns | 10/20/95 | 11/14/02; 67 FR 68935 | (c)(192).
2108.01.d | Cold Start | 10/20/95 | 11/14/02; 67 FR 68935 | (c)(192).
2108.01.e (Except paragrphs e.1.A & .B) | Emissions Inventory Statements | 10/20/95 | 11/14/02; 67 FR 68935 | (c)(192).
2108.01.f | Orders | 10/20/95 | 11/14/02; 67 FR 68935 | (c)(192).
2108.01.g | Violations | 10/20/95 | 11/14/02; 67 FR 68935 | (c)(192).
2108.02 | Emissions Testing | 10/20/95 | 11/14/02; 67 FR 68935 | (c)(192).
2108.03 | Continuous Emissions Monitoring | 10/20/95 | 11/14/02; 67 FR 68935 | (c)(192).
2108.04 | Ambient Monitoring | 10/20/95 | 11/14/02; 67 FR 68935 | (c)(192).
Part I—Enforcement
2109.01 | Inspections | 10/20/95 | 11/14/02; 67 FR 68935 | (c)(192).
2109.02 (except paragraph .02.a.7) | Remedies | 10/20/95 | 11/14/02; 67 FR 68935 | (c)(192).
2109.03a (introductory sentence), b. through f. | Enforcement Orders | 10/20/95 | 11/14/02; 67 FR 68935 | (c)(192).
2109.04 | Orders Establishing an Additional or More Restrictive Standard | 10/20/95 | 11/14/02; 67 FR 68935 | (c)(192).
2109.05 | Emergency Orders | 10/20/95 | 11/14/02; 67 FR 68935 | (c)(192).
2109.06 (Except paragraphs .06.a.2, .a.3, and .a.4) | Civil Proceedings | 10/20/95 | 11/14/02; 67 FR 68935 | (c)(192).
2109.10 | Appeals | 10/20/95 | 11/14/02; 67 FR 68935 | (c)(192).
2109.20 | General Federal Conformity | 10/20/95 | 11/14/02; 67 FR 68935 | (c)(192).

(3) EPA-Approved Philadelphia AMS Regulations
Rule citation | Title/subject | State effective date | EPA approval date | Additional explanation/§ 52.2063 citation
Title 3 Air Management Code
Chapter 3-100 | General Provisions | 10/20/69 | 5/31/72; 37 FR 10842 | (c)(1).
Chapter 3-200 (Except § 3-207(4)) | Prohibited Conduct | 10/4/76 | 6/4/79; 44 FR 31980 | (c)(18).
Chapter 3-300 | Administrative Provisions | 9/21/72 | 3/12/79; 44 FR 13480 | (c)(15).
Regulation I—General Provisions
Section I | Definitions | 4/29/70 | 5/31/72; 37 FR 10842 | (c)(1).
Section II (Except portions of paragraph II.B) | Source Registration and Emission Reporting | 5/4/74 | 9/9/75; 40 FR 41787 | (c)(12).
Section III | Testing and Test Methods | 4/29/70 | 5/31/72; 37 FR 10842 | (c)(1).
Section IV | Availability of Technology | 4/29/70 | 5/31/72; 37 FR 10842 | (c)(1).
Section V | Improvement and Plan | 4/29/70 | 5/31/72; 37 FR 10842 | (c)(1).
Section VI | Pre-existing Regulations | 4/29/70 | 5/31/72; 37 FR 10842 | (c)(1).
Section VII | Circumvention | 4/29/70 | 5/31/72; 37 FR 10842 | (c)(1).
Section VIII | Severability | 4/29/70 | 5/31/72; 37 FR 10842 | (c)(1).
Section IX | Effective Date | 4/29/70 | 5/31/72; 37 FR 10842 | (c)(1).
Section XI.D | Compliance with Federal Regulations—Stack Height Regulations | 3/27/86 | 1/23/89; 54 FR 3029 | (c)(70).
Regulation II—Air Contaminant and Particulate Matter Emissions
Section I | No Title [General Provisions] | 4/29/70 | 5/31/72; 37 FR 10842 | (c)(1).
Section II | Open Fires | 4/29/70 | 5/31/72; 37 FR 10842 | (c)(1).
Section IV | Visible Emissions | 5/4/74 | 9/9/75; 40 FR 41787 | (c)(12).
Section V | Particulate Matter Emissions from the Burning of Fuels | 8/27/81 | 4/16/82; 47 FR 16325 | (c)(43).
Section VI | Selection of Fuel for Particulate Matter Emission Control | 4/29/70 | 5/31/72; 37 FR 10842 | (c)(1).
Section VII | Particulate Matter Emissions from Chemical, Metallurgical, Mechanical and Other Processes | 4/29/70 | 5/31/72; 37 FR 10842 | (c)(1).
Section VIII | Fugitive Dust | 4/29/70 | 5/31/72; 37 FR 10842 | (c)(1).
Table 1 | No Title [Allowable Process Weight Emissions] | 4/29/70 | 5/31/72; 37 FR 10842 | (c)(1).
Regulation III—The Control of Emissions of Oxides and Sulfur Compounds
Section I | No Title [General Provisions] | 4/29/70 | 5/31/72; 37 FR 10842 | (c)(1).
Section II | Control of Emission of Sulfur Compounds | 5/10/80 | 9/17/81; 46 FR 46133 | (c)(37).
Section III | Control of Sulfur in Fuels | 8/27/81 | 4/16/82; 47 FR 16325 | (c)(43).
Regulation IV—Governing Air Pollution Control Measures During High Air Pollution Episodes
Section I | Definitions | 2/5/71 | 5/31/72; 37 FR 10842 | (c)(1).
Section II | Declaration of Conditions | 2/5/71 | 5/31/72; 37 FR 10842 | (c)(1).
Section III | Termination of Conditions | 2/5/71 | 5/31/72; 37 FR 10842 | (c)(1).
Section IV | Alert and Notification System by the Health Commissioner and the Emergency Coordinator | 2/5/71 | 5/31/72; 37 FR 10842 | (c)(1).
Section V | Advance Preparation for High Air Pollution Episodes | 2/5/71 | 5/31/72; 37 FR 10842 | (c)(1).
Section VI | Actions and Restrictions | 2/5/71 | 5/31/72; 37 FR 10842 | (c)(1).
Section VII | Severability | 2/5/71 | 5/31/72; 37 FR 10842 | (c)(1).
Section VIII | Effective Date | 2/5/71 | 5/31/72; 37 FR 10842 | (c)(1).
Table I | Minimum Abatement Strategies for Emission Reduction Plans—Stage I Condition | 2/5/71 | 5/31/72; 37 FR 10842 | (c)(1).
Table II | Minimum Abatement Strategies for Emission Reduction Plans—Stage II Condition | 2/5/71 | 5/31/72; 37 FR 10842 | (c)(1).
Table III | Minimum Abatement Strategies for Emission Reduction Plans—Emergency Condition | 2/5/71 | 5/31/72; 37 FR 10842 | (c)(1).
Table IV | Emergency Business and Establishment List | 2/5/71 | 5/31/72; 37 FR 10842 | (c)(1).
Regulation V—Control of Emissions of Organic Substances From Stationary Sources
Section I (Except for definitions related to paragraphs V.C. & V.D.) | Definitions | 11/28/86 | 6/16/93; 58 FR 33200 | (c)(83).
Section I | Definitions | 5/23/88 | 4/6/93; 48 FR 17778 | (c)(78).
Section II | Storage Tanks | 7/10/71 | 5/31/72; 37 FR 10842 | (c)(1).
Section III | Oil-Effluent Water Separator | 7/10/71 | 5/31/72; 37 FR 10842 | (c)(1).
Section IV | Pumps and Compressors | 7/10/71 | 5/31/72; 37 FR 10842 | (c)(1).
Section V (Except paragraphs V.C and V.D) | Organic Material Loading | 7/10/71 | 5/31/72; 37 FR 10842 | (c)(1).
Section VI | Solvents | 7/10/71 | 5/31/72; 37 FR 10842 | (c)(1).
Section VII | Processing of Photochemically Reactive Materials | 7/10/71 | 5/31/72; 37 FR 10842 | (c)(1).
Section VIII | Architectural Coatings | 7/10/71 | 5/31/72; 37 FR 10842 | (c)(1).
Section IX | Disposal of Solvents | 7/10/71 | 5/31/72; 37 FR 10842 | (c)(1).
Section X | Compliance with Pennsylvania Standards for Volatile Organic Compounds (VOC) | 11/28/86 | 6/16/93; 58 FR 33192 | (c)(82).
Section XI | Petroleum Solvent Dry Cleaning | 11/28/86 | 4/12/93; 58 FR 19066 | (c)(77).
Section XII | Pharmaceutical Tablet Coating | 11/28/86 | 6/16/93; 58 FR 33200 | (c)(83).
Section XIII | Process Equipment Leaks | 5/23/98 | 4/6/93; 58 FR 17778 | (c)(78).
Section XXII | Circumvention | 7/10/71; recodified 5/23/88 | 5/31/72; 37 FR 10842 | (c)(1).
Section XXIII | Severability | 7/10/71; recodified 5/23/88 | 5/31/72; 37 FR 10842 | (c)(1).
Section XXIV | Effective Date | 7/10/71; recodified 5/23/88 | 5/31/72; 37 FR 10842 | (c)(1).
Regulation VII—Control of Emissions of Nitrogen Oxides From Stationary Sources
Section I | Definitions | 7/1/72 | 5/14/73; 38 FR 12696 | (c)(7).
Section II | Fuel Burning Equipment | 11/20/85 | 1/14/87; 52 FR 1456 | (c)(65).
Section III | Nitric Acid Plants | 7/1/72 | 5/14/73; 38 FR 12696 | (c)(7).
Section IV | Emissions Monitoring | 7/1/72 | 5/14/73; 38 FR 12696 | (c)(7).
Section V | Circumvention | 7/1/72 | 5/14/73; 38 FR 12696 | (c)(7).
Section VI | Severability | 7/1/72 | 5/14/73; 38 FR 12696 | (c)(7).
Section VII | Effective Date | 7/1/72 | 5/14/73; 38 FR 12696 | (c)(7).
Regulation VIII—Control of Emissions of Carbon Monoxide From Stationary Sources
Section I | Definitions | 8/20/72 | 5/14/73; 38 FR 12696 | (c)(7).
Section II | General | 8/20/72 | 5/14/73; 38 FR 12696 | (c)(7).
Section III | Emissions Monitoring | 8/20/72 | 5/14/73; 38 FR 12696 | (c)(7).
Section IV | Circumvention | 8/20/72 | 5/14/73; 38 FR 12696 | (c)(7).
Section V | Severability | 8/20/72 | 5/14/73; 38 FR 12696 | (c)(7).
Section VI | Effective Date | 8/20/72 | 5/14/73; 38 FR 12696 | (c)(7).
Regulation XI—Control of Emissions From Incinerators
Section I | Definitions | 5/4/74 | 9/9/75; 40 FR 41787 | (c)(12).
Section II | General Provisions | 5/4/74 | 9/9/75; 40 FR 41787 | (c)(12).
Section III (Except paragraph III.E. (odors)) | Emissions Limitations | 5/4/74 | 9/9/75; 40 FR 41787 | (c)(12).
Section IV | Design | 5/4/74 | 9/9/75; 40 FR 41787 | (c)(12).
Section V | Operation | 5/4/74 | 9/9/75; 40 FR 41787 | (c)(12).
Section VI | Permits and Licenses | 5/4/74 | 9/9/75; 40 FR 41787 | (c)(12).
Section VII | Circumvention | 5/4/74 | 9/9/75; 40 FR 41787 | (c)(12).
Section VIII | Severability | 5/4/74 | 9/9/75; 40 FR 41787 | (c)(12).
Section IX | Effective Date | 5/4/74 | 9/9/75; 40 FR 41787 | (c)(12).
Regulation XIII—Construction, Modification, Reactivation and Operation of Sources
Section I | Introduction | 10/30/95 | 3/28/03; 68 FR 15059 | (c)(203).
Section II | Program Adoption | 10/30/95 | 3/28/03; 68 FR 15059 | (c)(203).

(d) EPA-approved source-specific requirements.

(1) EPA-Approved Source-Specific Reasonably Available Control Technology (RACT) Requirements for Volatile Organic Compounds (VOC) and Oxides of Nitrogen (NOX)
Name of source | Permit No. | County | State effective date | EPA approval date | Additional explanation/§ 52.2063 citation
For exceptions, see the applicable paragraphs in 40 CFR 52.2063(c).
ARCO Chemical Company | 04-313-052 | Beaver | 12/9/86 | 5/16/90; 55 FR 20267 | (c)(71).
IMC Chemical Group | 39-313-014 | Lehigh | 12/10/86 | 5/16/90; 55 FR 20267 | (c)(72).
Aristech Chemical Corp | 86-I-0024-P | Allegheny | 8/28/86 3/3/87 | 6/16/93; 58 FR 33197 | (c)(80).
The Knoll Group | 46-326-001A | Montgomery | 3/24/93 | 10/19/93; 58 FR 53885 | (c)(87).
ESSROC Materials | PA-48-0004A | Northampton | 12/20/94 | 08/08/95; 60 FR 40292 | (c)(98)(i)(B)(1).
Pennsylvania Power and Light Co. (PP&L)—Brunner Island | PA-67-2005 | York | 12/22/94 | 08/08/95; 60 FR 40292 | (c)(98)(i)(B)(2).
PPG Industries, Inc.—South Middleton | OP-21-2002 | Cumberland | 12/22/94 | 08/08/95; 60 FR 40292 | (c)(98)(i)(B)(3).
Stroehmann Bakeries—Dauphin County | PA-22-2003 | Dauphin | 12/22/94 | 08/08/95; 60 FR 40292 | (c)(98)(i)(B)(4).
General Electric Transportation Systems—Erie | OP-25-025 | Erie | 12/21/94 | 08/08/95; 60 FR 40292 | (c)(98)(i)(B)(5).
J.E. Baker Co. (Refractories)—York | OP-67-2001 | York | 12/22/94 | 08/08/95; 60 FR 40292 | (c)(98)(i)(B)(6).
Lafarge Corp | OP-39-0011 | Lehigh | 12/23/94 | 08/08/95; 60 FR 40292 | (c)(98)(i)(B)(7).
Lafarge Corp | PA-39-0011A | Lehigh | 12/23/94 | 08/08/95; 60 FR 40292 | (c)(98)(i)(B)(7).
West Penn Power—Armstrong | PA-03-000-023 | Armstrong | 12/29/94 | 08/08/95; 60 FR 40292 | (c)(98)(i)(B)(8).
West Penn Power—Armstrong | PA-03-306-004 | Armstrong | 3/28/94 | 08/08/95; 60 FR 40292 | (c)(98)(i)(B)(8).
West Penn Power—Armstrong | PA-03-306-006 | Armstrong | 11/22/94 | 08/08/95; 60 FR 40292 | (c)(98)(i)(B)(8).
Plain and Fancy Kitchens, Inc | PA-38-318-019C | Lebanon | 12/23/94 | 08/08/95; 60 FR 40292 | (c)(98)(i)(B)(9).
Stroehmann Bakeries—Bradford County | PA-08-0001 | Bradford | 2/9/95 | 08/10/95; 60 FR 40758 | (c)(101)(i)(B).
Stroehmann Bakeries—Bradford County | OP-08-0001A | Bradford | 2/9/95 | 08/10/95; 60 FR 40758 | (c)(101)(i)(B).
Stroehmann Bakeries—Lycoming County | PA-41-0001 | Lycoming | 2/9/95 | 08/10/95; 60 FR 40758 | (c)(101)(i)(B).
Stroehmann Bakeries—Lycoming County | OP-41-0001A | Lycoming | 2/9/95 | 08/10/95; 60 FR 40758 | (c)(101)(i)(B).
Philadelphia Electric Co. (PECO)—Eddystone | OP23-0017 | Delaware | 12/28/94 | 09/08/95; 60 FR 46768 | (c)(102)(i)(B)(1).
Philadelphia Electric Co. (PECO)—Eddystone | PA23-0017 | Delaware | 12/28/94 | 09/08/95; 60 FR 46768 | (c)(102)(i)(B)(1).
Gilberton Power Co.—John Rich Memorial | OP-54-0004 | Schuylkill | 12/20/94 | 09/08/95; 60 FR 46768 | (c)(102)(i)(B)(2).
Bethlehem Steel—Coke and Chemical Production | OP-48-0013 | Northampton | 12/20/94 | 09/08/95; 60 FR 46768 | (c)(102)(i)(B)(3).
Bethlehem Steel—Foundry | OP-48-0014 | Northampton | 12/20/94 | 09/08/95; 60 FR 46768 | (c)(102)(i)(B)(3).
Bethlehem Steel—Structural Products | OP-48-0010 | Northampton | 12/20/94 | 09/08/95; 60 FR 46768 | (c)(102)(i)(B)(3).
Bethlehem Steel—Forging | OP-48-0015 | Northampton | 12/20/94 | 09/08/95; 60 FR 46768 | (c)(102)(i)(B)(3).
Westwood Energy Properties, Inc. (CRS Sirrine, Inc.) | OP-54-000-6 | Schuylkill | 12/27/94 | 09/08/95; 60 FR 46768 | (c)(102)(i)(B)(4).
PECO Energy Co.—Front Street | OP-46-0045 | Montgomery | 3/31/95 | 09/08/95; 60 FR 46768 | (c)(102)(i)(B)(5).
Crawford Furniture Manufacturing Corp.—Clarion County | OP-16-021 | Clarion | 3/27/95 | 09/08/95; 60 FR 46768 | (c)(102)(i)(B)(6).
Schuylkill Energy Resources | OP-54-0003 | Schuylkill | 5/19/95 | 09/08/95; 60 FR 46768 | (c)(102)(i)(B)(7).
Columbia Gas Transmission Corp.—Milford Compressor Station | OP-52-0001 | Pike | 4/21/95 | 09/08/95; 60 FR 46768 | (c)(102)(i)(B)(9).
Texas Eastern Transmission Corp.—Entriken Compressor Station | OP-31-2003 | Huntingdon | 5/16/95 | 09/08/95; 60 FR 46768 | (c)(102)(i)(B)(10).
Columbia Gas Transmission Corp.—Greencastle Compressor Station | OP-28-2003 | Franklin | 4/21/95 | 09/08/95; 60 FR 46768 | (c)(102)(i)(B)(11).
Lord Corporation—Aerospace Div | OP-25-095 | Erie | 3/30/95 | 09/08/95; 60 FR 46768 | (c)(102)(i)(B)(12).
Tennessee Gas Pipeline Co. (TENNECO)—Station 313 | PA-53-0001; OP-53-0001; CP-53-0001 | Potter | 11/27/95 | 04/09/96; 61 FR 15709 | (c)(103)(i)(B)(1).
Corning Asahi Video Products—State College | OP-14-0003 | Centre | 12/27/94 | 04/09/96; 61 FR 15709 | (c)(103)(i)(B)(2).
Corning Asahi Video Products—State College | OP-14-309-009C | Centre | 5/5/94 | 04/09/96; 61 FR 15709 | (c)(103)(i)(B)(2).
Corning Asahi Video Products—State College | OP-14-309-010A | Centre | 8/18/94 | 04/09/96; 61 FR 15709 | (c)(103)(i)(B)(2).
Corning Asahi Video Products—State College | OP-14-309-037A | Centre | 5/5/94 | 04/09/96; 61 FR 15709 | (c)(103)(i)(B)(2).
Columbia Gas Transmission Corp.—Easton Compressor Station | OP-48-0001; PA-48-0001A | Northampton | 5/19/95 | 04/09/96; 61 FR 15709 | (c)(103)(i)(B)(3).
Texas Eastern Transmission Corp.—Bedford Compressor Station | OP-05-2007 | Bedford | 5/16/94 | 04/09/96; 61 FR 15709 | (c)(103)(i)(B)(4).
Texas Eastern Transmission Corp.—Marietta Compressor Station | PA-36-2025 | Lancaster | 5/16/95 | 04/09/96; 61 FR 15709 | (c)(103)(i)(B)(5).
Hercules Cement Co | PA-48-0005; PA-48-0005A | Northampton | 12/23/94 | 04/09/96; 61 FR 15709 | (c)(103)(i)(B)(6).
ESSROC (formerly Lone Star Industries, Inc.) | OP-48-0007 | Northampton | 12/29/94 | 04/09/96; 61 FR 15709 | (c)(103)(i)(B)(7).
Pennsylvania Power and Light Co. (PP&L)—Montour | PA-47-0001; 47-0001A | Montour | 12/27/94 | 04/09/96; 61 FR 15709 | (c)(103)(i)(B)(8).
Pennsylvania Electric Co. (PENELEC)—Shawville | PA-17-0001 | Clearfield | 12/27/94 | 04/09/96; 61 FR 15709 | (c)(103)(i)(B)(9).
Zinc Corp. of America—Potter Twp | OP-04-000-044 | Beaver | 12/29/94 | 04/09/96; 61 FR 15709 | (c)(103)(i)(B)(10).
The Procter and Gamble Paper Products Company Mehoopany | OP-66-0001; PA-66-0001A | Wyoming | 12/20/94 | 04/09/96; 61 FR 15709 | (c)(103)(i)(B)(11).
Columbia Gas Transmission Corp.—Union City Compressor Station | OP-25-892 | Erie | 4/11/95 | 04/09/96; 61 FR 15709 | (c)(103)(i)(B)(12).
James River Corp.—Chambersburg | OP-28-2006 | Franklin | 6/14/95 | 02/12/96; 61 FR 05303 | (c)(104)(i)(C)(1).
Appleton Papers, Inc.—Harrisburg | OP-21-2004 | Cumberland | 5/24/95 | 02/12/96; 61 FR 05303 | (c)(104)(i)(C)(2).
Air Products and Chemicals, Inc.—Corporate R & D | OP-39-0008 | Lehigh | 5/25/95 | 02/12/96; 61 FR 05303 | (c)(104)(i)(C)(3).
Elf Atochem North America, Inc.—King of Prussia | OP-46-0022 | Montgomery | 6/27/95 | 02/12/96; 61 FR 05303 | (c)(104)(i)(C)(4).
York City Sewer Authority (Wastewater Treatment Plant) | OP-67-2013 | York | 3/1/95 | 02/12/96; 61 FR 05303 | (c)(104)(i)(C)(5).
Glasgow, Inc.—Ivy Rock | OP-46-0043 | Montgomery | 6/7/95 | 02/12/96; 61 FR 05303 | (c)(104)(i)(C)(6).
Glasgow, Inc.—Spring House | OP-46-0029 | Montgomery | 6/7/95 | 02/12/96; 61 FR 05303 | (c)(104)(i)(C)(7).
Glasgow, Inc.—Catanach | OP-15-0021 | Chester | 6/7/95 | 02/12/96; 61 FR 05303 | (c)(104)(i)(C)(8).
Glasgow, Inc.—Freeborn | OP-23-0026 | Delaware | 6/7/95 | 02/12/96; 61 FR 05303 | (c)(104)(i)(C)(9).
UGI Utilities—Hunlock Creek | OP-40-0005; PA-40-0005A | Luzerne | 12/20/94 | 05/16/96; 61 FR 24706 | (c)(108)(i)(B)(1).
Solar Turbines, Inc. (York Cogeneration Facility) | PA-67-2009 | York | 8/17/95 | 05/16/96; 61 FR 24706 | (c)(108)(i)(B)(2).
Solar Turbines, Inc. (York Cogeneration Facility) | CP-67-2009 | York | 8/17/95 | 05/16/96; 61 FR 24706 | (c)(108)(i)(B)(2).
Columbia Gas Transmission Corp.—Renovo Compressor Station | OP-18-0001; PA-18-0001 | Clinton | 7/18/95 | 05/16/96; 61 FR 24706 | (c)(108)(i)(B)(3).
National Fuel Gas Supply Corp.—East Fork Compressor Station | OP-53-0007 PA-53-0007A | Potter | 7/17/95 | 05/16/96; 61 FR 24706 | (c)(108)(i)(B)(4).
York County Solid Waste & Refuse Authority (Y.C.R.R.C.) | PA-67-2006 | York | 8/25/95 | 05/16/96; 61 FR 24706 | (c)(108)(i)(B)(5).
W. R. Grace and Co.—FORMPAC Div. | PA-06-1036 | Berks | 5/12/95 | 05/16/96; 61 FR 24706 | (c)(108)(i)(B)(6).
W. R. Grace and Co.—Reading Plant | PA-06-315-001 | Berks | 6/4/92 | 05/16/96; 61 FR 24706 | (c)(108)(i)(B)(6).
CNG Transmission Corp.—Cherry Tree Sta. | PA-32-000-303 | Indiana | 7/5/95 | 05/16/96; 61 FR 24706 | (c)(108)(i)(B)(7)
EPC Power Corp. of Bethlehem (Crozer Chester CoGen) | OP-23-0007 | Delaware | 6/8/95 | 05/16/96; 61 FR 24706 | (c)(108)(i)(B)(8).
C-P Converters, Inc.—York | OP-67-2030 | York | 8/30/95 | 05/16/96; 61 FR 24706 | (c)(108)(i)(B)(9).
Fisher Scientific Co. International—Indiana | OP-32-000-100 | Indiana | 7/18/95 | 05/16/96; 61 FR 24706 | (c)(108)(i)(B)(10).
Adelphi Kitchens, Inc.—Robesonia Factory | OP-06-1001 | Berks | 4/4/95 | 05/16/96; 61 FR 24706 | (c)(108)(i)(B)(11).
Birchcraft Kitchens, Inc.—Reading Factory | OP-06-1005 | Berks | 4/4/95 | 05/16/96; 61 FR 24706 | (c)(108)(i)(B)(12).
Glasgow, Inc.—Bridgeport Asphalt Plant | OP-46-0044 | Montgomery | 6/7/95 | 05/16/96; 61 FR 24706 | (c)(108)(i)(B)(13).
Caparo Steel Co.—Farrell | OP-43-285 | Mercer | 11/3/95 | 12/20/96; 61 FR 67229 | (c)(113)(i)(B)(1); 52.2037(g).
Sharon Steel Corp.—Farrell | OP-43-017 | Mercer | 11/3/95 | 12/20/96; 61 FR 67229 | (c)(113)(i)(B)(2); 52.2036(f); 52.2037(e).
DMi Furniture, Inc.—Timely Plant #7 (Gettysburg) | OP-01-2001 | Adams | 6/13/95 | 03/12/97; 62 FR 11079 | (c)(114)(i)(B)(1).
R.R. Donnelley and Sons Co.—Lancaster West Plant | OP-36-2026 | Lancaster | 7/14/95 | 03/12/97; 62 FR 11079 | (c)(114)(i)(B)(2).
International Paper Company—Hammermill Papers Division | OP-18-0005 | Clinton | 12/27/94 | 01/29/97; 62 FR 04167 | (c)(115)(i)(B).
Lucent Technology (formerly AT&T Corp.)—Reading | PA-06-1003 | Berks | 6/26/95 | 04/18/97; 62 FR 19051 | (c)(117)(i)(B)(1).
Garden State Tanning, Inc.—Fleetwood Plant | PA-06-1014 | Berks | 6/21/95 | 04/18/97; 62 FR 19051 | (c)(117)(i)(B)(2).
Glidden Co., The—Reading | OP-06-1035 | Berks | 2/15/96 | 04/18/97; 62 FR 19051 | (c)(117)(i)(B)(3).
Maier's Bakery—Reading Plant | PA-06-1023 | Berks | 9/20/95 | 04/18/97; 62 FR 19047 | (c)(118)(i)(B)(1).
Morgan Corp.—Morgantown Plant | OP-06-1025 | Berks | 8/31/95 | 04/18/97; 62 FR 19047 | (c)(118)(i)(B)(2).
Allentown Cement Co., Inc.—Evansville Plant | PA-06-1002 | Berks | 10/11/95 | 04/18/97; 62 FR 19047 | (c)(118)(i)(B)(3).
Quaker Maid (Schrock Cabinet Group)—Leesport | OP-06-1028 | Berks | 10/27/95 | 04/18/97; 62 FR 19047 | (c)(118)(i)(B)(4).
Brentwood Industries, Inc.—Reading Plant | PA-06-1006 | Berks | 2/12/96 | 04/18/97; 62 FR 19047 | (c)(118)(i)(B)(5).
Metropolitan Edison Co. (MetEd)—Titus Station | PA-06-1024 | Berks | 3/9/95 | 04/18/97; 62 FR 19047 | (c)(118)(i)(B)(6).
ICI Fluoropolymers—Downingtown | PA-15-0009; CP-15-0009 | Chester | 10/3/95 | 04/18/97; 62 FR 19047 | (c)(118)(i)(B)(7).
Synthetic Thread Co., Inc.—Bethlehem | PA-39-0007A | Lehigh | 8/10/95 | 04/18/97; 62 FR 19047 | (c)(118)(i)(B)(8).
Bird-in-Hand Woodwork, Inc. (Childcraft Education Corp.) | OP-36-2022 | Lancaster | 9/27/95 | 04/18/97; 62 FR 19047 | (c)(118)(i)(B)(9).
Heinz Pet Products—Bloomsburg | OP-19-0003 | Columbia | 11/27/95 | 08/21/97; 62 FR 44413 | (c)(119)(i)(B)(1).
Graco Children's Products, Inc.—Elverson | OP-15-0006 | Chester | 11/30/95 | 08/21/97; 62 FR 44413 | (c)(119)(i)(B)(2).
Texas Eastern Transmission Corp.—Bernville | OP-06-1033 | Berks | 1/31/97 | 04/18/97; 62 FR 19049 | (c)(120)(i)(B)(1).
Texas Eastern Transmission Corp.—Bechtelsville | OP-06-1034 | Berks | 1/31/97 | 04/18/97; 62 FR 19049 | (c)(120)(i)(B)(2).
Carpenter Technology Corp.—Reading Plant | OP-06-1007 | Berks | 9/27/96 | 04/18/97; 62 FR 19049 | (c)(120)(i)(B)(3), (ii)(B).
North American Fluoropolymers Co. (NAFCO) | 06-1026; CP-06-1026 | Berks | 4/19/95 6/1/95 | 04/18/97; 62 FR 19049 | (c)(120)(i)(B)(4), (ii)(B).
CNG Transmission Corp.—Ellisburg Compressor Station | PA-53-0004A | Potter | 2/29/96 | 06/11/97; 62 FR 31732 | (c)(121)(i)(B)(1).
CNG Transmission Corp.—Ellisburg Compressor Station | OP-53-0004A | Potter | 2/29/96 | 06/11/97; 62 FR 31732 | (c)(121)(i)(B)(1).
CNG Transmission Corp.—Ellisburg Compressor Station | CP-53-0004A | Potter | 2/29/96 | 06/11/97; 62 FR 31732 | (c)(121)(i)(B)(1).
CNG Transmission Corp.—Greenlick Compressor Station | PA-53-0003A | Potter | 12/18/95 | 06/11/97; 62 FR 31732 | (c)(121)(i)(B)(2).
CNG Transmission Corp.—Greenlick Compressor Station | CP-53-0003A | Potter | 12/18/95 | 06/11/97; 62 FR 31732 | (c)(121)(i)(B)(2).
CNG Transmission Corp.—Greenlick Compressor Station | OP-53-0003A | Potter | 12/18/95 | 06/11/97; 62 FR 31732 | (c)(121)(i)(B)(2).
CNG Transmission Corp.—Crayne Station | 30-000-089 | Greene | 12/22/95 | 06/11/97; 62 FR 31732 | (c)(121)(i)(B)(3).
CNG Transmission Corp.—State Line Station | OP-53-0003A | Potter | 1/10/96 | 06/11/97; 62 FR 31732 | (c)(121)(i)(B)(4).
CNG Transmission Corp.—Big Run Station | PA-33-147 | Jefferson | 6/27/95 | 06/11/97; 62 FR 31732 | (c)(121)(i)(B)(5).
Medusa Cement Company | OP-37-013 | Lawrence | 7/27/95 | 06/03/97; 62 FR 30250 | (c)(122)(i)(B)(1).
Keystone Cement Co. | OP-48-0003 | Northampton | 5/25/95 | 06/03/97; 62 FR 30250 | (c)(122)(i)(B)(2).
Lehigh Portland Cement Company | OP-67-2024 | York | 5/26/95 | 06/03/97; 62 FR 30250 | (c)(122)(i)(B)(3).
Mercer Lime and Stone Company | OP-10-023 | Butler | 5/31/95 | 06/03/97; 62 FR 30250 | (c)(122)(i)(B)(4).
Con-Lime, Inc. | OP-14-0001 | Centre | 6/30/95 | 06/03/97; 62 FR 30250 | (c)(122)(i)(B)(5).
Pennzoil Products Co.—Rouseville | PA-61-016 | Venango | 9/8/95 | 06/11/97; 62 FR 31738 | (c)(124)(i)(B).
R.R. Donnelley&Sons Co.—Lancaster East Plant | OP-36-2027 | Lancaster | 7/14/95 | 07/21/97; 62 FR 33891 | (c)(125)(i)(B); 52.2036j.
Panther Creek Partners | OP-13-0003 | Carbon | 12/2/96 | 09/29/97; 62 FR 50871 | (c)(128)(i)(B).
Allegro Microsystems, W.G., Inc.—Willow Grove | OP-46-0006 | Montgomery | 12/19/97 | 03/09/98; 63 FR 11370 | (c)(130)(i)(B)(1).
Hale Products, Inc.—Conshohocken | OP-46-0057 | Montgomery | 11/21/97 | 03/09/98; 63 FR 11370 | (c)(130)(i)(B)(2).
Con-Lime, Inc.—Bellefonte | OP-14-0001 | Centre | 1/7/98 | 03/09/98; 63 FR 11370 | (c)(130)(i)(B)(3).
Coastal Aluminum Rolling Mills. Inc.—Williamsport | OP-41-0007 | Lycoming | 11/21/97 | 03/09/98; 63 FR 11370 | (c)(130)(i)(B)(4).
ABP/International Envelope Co. | OP-15-0023 | Chester | 11/2/95 | 03/09/98; 63 FR 11370 | (c)(130)(i)(B)(5).
Brown Printing Company | CP-46-0018 | Montgomery | 9/26/96 10/27/97 | 03/09/98; 63 FR 11370 | (c)(130)(i)(B)(6).
Fibre-Metal Products Company | OP-23-0025 | Delaware | 2/20/98 | 06/29/98; 63 FR 35145 | (c)(132)(i)(B)(1).
Finnaren & Haley, Inc. | OP-46-0070 | Montgomery | 3/5/98 | 06/29/98; 63 FR 35145 | (c)(132)(i)(B)(2).
Fres-co System USA, Inc. | OP-09-0027 | Bucks | 3/5/98 | 06/29/98; 63 FR 35145 | (c)(132)(i)(B)(3).
Graphic Packaging Corporation | OP-15-0013 | Chester | 2/28/98 | 06/29/98; 63 FR 35145 | (c)(132)(i)(B)(4).
Montour Oil Service Company, a division of Sun Company, Inc. | OP-41-0013 | Lycoming | 3/19/98 | 06/29/98; 63 FR 35145 | (c)(132)(i)(B)(5).
Atlantic Refining and Marketing Corp. (Sun Co., Inc. (R & M)) | OP-49-0015 | Northampton | 3/19/98 | 06/29/98; 63 FR 35145 | (c)(132)(i)(B)(6).
Transwall Corporation | OP-15-0025 | Chester | 3/10/98 | 06/29/98; 63 FR 35145 | (c)(132)(i)(B)(7).
Tavo Packaging (formerly Mead Packaging Company) | OP-09-0008 | Bucks | 11/8/95 | 06/29/98; 63 FR 35145 | (c)(132)(i)(B)(8).
CNG Transmission Corp.—Harrison Compressor Station | PA-53-0005A | Potter | 4/16/96 | 10/08/98; 63 FR 54050 | (c)(134)(i)(B)(1).
CNG Transmission Corp.—Harrison Compressor Station | OP-53-0005A | Potter | 4/16/96 | 10/08/98; 63 FR 54050 | (c)(134)(i)(B)(1).
CNG Transmission Corp.—Harrison Compressor Station | CP-53-0005A | Potter | 4/16/96 | 10/08/98; 63 FR 54050 | (c)(134)(i)(B)(1).
CNG Transmission Corp.—Leidy Station | PA-18-0004A | Clinton | 3/25/96 | 10/08/98; 63 FR 54050 | (c)(134)(i)(B)(2).
CNG Transmission Corp.—Leidy Compressor Station | OP-18-0004 | Clinton | 2/29/96 | 10/08/98; 63 FR 54050 | (c)(134)(i)(B)(2).
CNG Transmission Corp.—Leidy Station | CP-18-0004A | Clinton | 3/25/96 | 10/08/98; 63 FR 54050 | (c)(134)(i)(B)(2).
CNG Transmission Corp.—Sabinsville Compressor Station | PA-59-0002A | Tioga | 12/18/95 | 10/08/98; 63 FR 54050 | (c)(134)(i)(B)(3).
CNG Transmission Corp.—Sabinsville Compressor Station | OP-59-0002 | Tioga | 12/18/95 | 10/08/98; 63 FR 54050 | (c)(134)(i)(B)(3).
CNG Transmission Corp.—Sabinsville Station | CP-59-0002A | Tioga | 12/18/95 | 10/08/98; 63 FR 54050 | (c)(134)(i)(B)(3).
CNG Transmission Corp.—Tioga Station | OP-59-0006 | Tioga | 1/16/96 | 10/08/98; 63 FR 54050 | (c)(134)(i)(B)(4).
Eldorado Properties Corp.—Northumberland Terminal | OP-49-0016 | Northumberland | 5/1/98 | 11/06/98; 63 FR 59884 | (c)(136)(i)(B)(1).
Endura Products, Inc. | OP-09-0028 | Bucks | 5/13/98 | 11/06/98; 63 FR 59884 | (c)(136)(i)(B)(2).
Ford Electronics & Refrigeration Company | OP-46-0036 | Montgomery | 4/30/98 | 11/06/98; 63 FR 59884 | (c)(136)(i)(B)(3).
H & N Packaging., Inc. (formerly Paramount Packaging Corp.) | OP-09-0038 | Bucks | 6/8/98 | 11/06/98; 63 FR 59884 | (c)(136)(i)(B)(4).
Lancaster County Solid Waste Management Authority | 36-02013 | Lancaster | 6/3/98 | 11/06/98; 63 FR 59884 | (c)(136)(i)(B)(5).
Monsey Products Co.—Kimberton | OP-15-0031 | Chester | 6/4/98 | 11/06/98; 63 FR 59884 | (c)(136)(i)(B)(6).
Ortho-McNeil Pharamaceutical—Spring House | OP-46-0027 | Montgomery | 6/4/98 | 11/06/98; 63 FR 59884 | (c)(136)(i)(B)(7).
Piccari Press, Inc. | OP-09-0040 | Bucks | 4/29/98 | 11/06/98; 63 FR 59884 | (c)(136)(i)(B)(8).
Pierce and Stevens Corp.—Kimberton | OP-15-0011 | Chester | 3/27/98 | 11/06/98; 63 FR 59884 | (c)(136)(i)(B)(9).
PQ Corporation—Chester | OP-23-0016 | Delaware | 6/16/98 | 11/06/98; 63 FR 59884 | (c)(136)(i)(B)(10).
Reynolds Metals Company Downington | OP-15-0004 | Chester | 5/8/98 | 11/06/98; 63 FR 59884 | (c)(136)(i)(B)(11).
Rhone-Poulenc Rorer Pharmaceutical, Inc | OP-46-0048B | Montgomery | 4/2/98 | 11/06/98; 63 FR 59884 | (c)(136)(i)(B)(12).
Superior Tube Company | OP-46-0020 | Montgomery | 4/17/98 | 11/06/98; 63 FR 59884 | (c)(136)(i)(B)(13).
Uniform Tubes Inc | OP-46-0046A | Montgomery | 3/26/98 | 11/06/98; 63 FR 59884 | (c)(136)(i)(B)(14).
U.S. Air Force—Willow Grove Air Reserve Station | OP-46-0072 | Montgomery | 5/1/98 | 11/06/98; 63 FR 59884 | (c)(136)(i)(B)(15).
Naval Air Station, Joint Reserve Base—Willow Grove | OP-46-0079 | Montgomery | 5/4/98 | 11/06/98; 63 FR 59884 | (c)(136)(i)(B)(16).
Columbia Gas Transmission Corp.—Artemas Compressor Station | 05-2006 | Bedford | 4/19/95 | 12/03/98; 63 FR 66755 | (c)(137)(i)(B)(1).
Columbia Gas Transmission Corp.—Donegal Compressor Station | 63-000-631 | Washington | 7/10/95 | 12/03/98; 63 FR 66755 | (c)(137)(i)(B)(2).
Columbia Gas Transmission Corp.—Gettysburg Compressor Station | 01-2003 | Adams | 4/21/95 | 12/03/98; 63 FR 66755 | (c)(137)(i)(B)(3).
Columbia Gas Transmission Corp.—Eagle Compressor Station | OP-15-0022 | Chester | 2/1/96 | 12/03/98; 63 FR 66755 | (c)(137)(i)(B)(4).
Columbia Gas Transmission Corp.—Downingtown | CP-15-0020 | Chester | 9/15/95 | 12/03/98; 63 FR 66755 | (c)(137)(i)(B)(5).
GKN Sinter Metals, Inc. | OP-12-0002 | Cameron | 10/30/98 | 04/16/99; 64 FR 18821 | (c)(138)(i)(B)(1).
Cabinet Industries, Inc.—Water Street Plant | OP-47-0005 | Montour | 9/21/98 | 04/16/99; 64 FR 18821 | (c)(138)(i)(B)(2).
Springs Window Fashions Division, Inc. | OP-41-0014 | Lycoming | 9/29/98 | 04/16/99; 64 FR 18821 | (c)(138)(i)(B)(3).
Centennial Printing Corp. | OP-46-0068 | Montgomery | 10/31/96 5/11/98 | 04/16/99; 64 FR 18821 | (c)(138)(i)(B)(4).
Strick Corp.—Danville | OP-47-0002 | Montour | 8/28/96 | 04/16/99; 64 FR 18821 | (c)(138)(i)(B)(5).
Handy and Harmon Tube Co.—Norristown | OP-46-0016 | Montgomery | 9/25/95 | 04/16/99; 64 FR 18821 | (c)(138)(i)(B)(6).
Boeing Defense & Space Group—Helicopters Div | CP-23-0009 | Delaware | 9/3/97 | 12/15/00; 65 FR 78418 | (c)(143)(i)(B)(1).
Delaware County Regional Authority's Western Regional Treatment Plant (DELCORA WRTP) | OP-23-0032 | Delware | 3/12/97 5/16/97 | 12/15/00; 65 FR 78418 | (c)(143)(i)(B)(2).
Delbar Products, Inc.—Perkasie | OP-09-0025 | Bucks | 2/1/96 | 12/15/00; 65 FR 78418 | (c)(143)(i)(B)(3).
Department of Public Welfare (NSH)—Norristown | OP-46-0060 | Montgomery | 1/21/98 | 12/15/00; 65 FR 78418 | (c)(143)(i)(B)(4).
Dopaco, Inc.—Downingtown | CP-15-0029 | Chester | 3/6/96 | 12/15/00; 65 FR 78418 | (c)(143)(i)(B)(5).
Garlock, Inc. (Plastomer Products) | PA-09-0035 | Bucks | 3/12/97 | 12/15/00; 65 FR 78418 | (c)(143)(i)(B)(6).
Interstate Brands Corporation (formerly, Continental Baking Company) | PLID (51-)5811 | Philadelphia | 4/10/95 | 12/15/00; 65 FR 78418 | (c)(143)(i)(B)(7).
J. B. Slevin Company Inc.—Lansdowne | OP-23-0013 | Delaware | 9/3/96 | 12/15/00; 65 FR 78418 | (c)(143)(i)(B)(8).
Laclede Steel Co.—Fairless Hills | OP-09-0023 | Bucks | 7/17/95 | 12/15/00; 65 FR 78418 | (c)(143)(i)(B)(9).
LNP Engineering Plastics, Inc.—Thorndale | OP-15-0035 | Chester | 10/31/97 | 12/15/00; 65 FR 78418 | (c)(143)(i)(B)(10).
Lukens Steel Co.—Coatesville | OP-15-0010 | Chester | 5/6/99 | 12/15/00; 65 FR 78418 | (c)(143)(i)(B)(11).
Nabisco Biscuit Co. | PLID (51-)3201 | Philadelphia | 4/10/95 | 12/15/00; 65 FR 78418 | (c)(143)(i)(B)(12).
PECO Energy Co.—Croydon Generating Station | OP-09-0016A | Bucks | 12/20/96 | 12/15/00; 65 FR 78418 | (c)(143)(i)(B)(13).
PECO Energy Co.—Limerick Generating Station | OP-46-0038 | Montgomery | 7/25/95 | 12/15/00; 65 FR 78418 | (c)(143)(i)(B)(14).
PECO Energy Co.—USX Fairless Works Powerhouse | OP-09-0066 | Bucks | 12/31/98 4/6/99 | 12/15/00; 65 FR 78418 | (c)(143)(i)(B)(15).
PECO Energy Co.—West Conshocken Plant | OP-46-0045A | Montgomery | 12/4/97 | 12/15/00; 65 FR 78418 | (c)(143)(i)(B)(16).
Pennsylvania Electric Co.—Front Street Station | 25-0041 | Erie | 2/25/99 | 12/15/00; 65 FR 78418 | (c)(143)(i)(B)(17).
American Inks and Coatings Corp.—Valley Forge | OP-15-0026A | Chester | 1/10/97 | 12/15/00; 65 FR 78418 | (c)(143)(i)(B)(18).
Avery Dennison Co. (Fasson Roll Division)—Quakertown | OP-09-0001A | Bucks | 10/2/97 | 12/15/00; 65 FR 78418 | (c)(143)(i)(B)(19).
Cabot Performance Materials—Boyertown | OP-46-0037 | Montgomery | 4/13/99 | 12/15/00; 65 FR 78418 | (c)(143)(i)(B)(20).
Cleveland Steel Container Corp.—Quakertown | OP-09-0022 | Bucks | 9/30/96 | 12/15/00; 65 FR 78418 | (c)(143)(i)(B)(21).
CMS Gilbreth Packaging Systems—Bristol | OP-09-0036 | Bucks | 1/7/97 | 12/15/00; 65 FR 78418 | (c)(143)(i)(B)(22).
CMS Gilbreth Packaging Systems—Bensalem | OP-09-0037 | Bucks | 4/10/97 | 12/15/00; 65 FR 78418 | (c)(143)(i)(B)(23).
Congoleum Corp.—Marcus Hook | OP-23-0021 | Delaware | 12/31/98 | 12/15/00; 65 FR 78418 | (c)(143)(i)(B)(24).
Epsilon Products Co.—Marcus Hook | OP-23-0012 | Delaware | 2/15/96 | 12/15/00; 65 FR 78418 | (c)(143)(i)(B)(25).
Foamex International, Inc.—Eddystone | OP-23-0006A | Delaware | 3/30/99 | 12/15/00; 65 FR 78418 | (c)(143)(i)(B)(26).
Forms, Inc., Spectra Graphics—Willow Grove | OP-46-0023 | Montgomery | 11/9/95/ 3/25//98 | 12/15/00; 65 FR 78418 | (c)(143)(i)(B)(27).
Global Packaging, Inc. (formerly BG Packaging—Oaks) | OP-46-0026 | Montgomery | 8/30/96 12/24/97 | 12/15/00; 65 FR 78418 | (c)(143)(i)(B)(28).
Jefferson Smurfit Corp. (Container Corp. of Amer.)—Oaks | OP-46-0041 | Montgomery | 4/18/97 | 12/15/00; 65 FR 78418 | (c)(143)(i)(B)(29).
Jefferson Smurfit Corp. (Container Corp. of Amer.)—North Wales | OP-46-0062 | Montgomery | 7/15/96 | 12/15/00; 65 FR 78418 | (c)(143)(i)(B)(30).
Lonza, Inc.—Conshohocken | OP-46-0025 | Montgomery | 4/22/97 6/16/98 | 12/15/00; 65 FR 78418 | (c)(143)(i)(B)(31).
Markel Corporation | OP-46-0081 | Montgomery | 4/9/99 | 12/15/00; 65 FR 78418 | (c)(143)(i)(B)(32).
McCorquodale Security Cards, Inc.—West Whiteland | OP-15-0037 | Chester | 9/3/96 | 12/15/00; 65 FR 78418 | (c)(143)(i)(B)(33).
Mike—Rich, Inc. (MRI)—Newtown | OP-09-0021 | Bucks | 12/20/96 | 12/15/00; 65 FR 78418 | (c)(143)(i)(B)(34).
Minnesota Mining and Manufacturing (3M) Company—Bristol | CP-09-0005 | Bucks | 8/8/96 | 12/15/00; 65 FR 78418 | (c)(143)(i)(B)(35).
MM Biogas Power LLC (formerly O'Brien Environmental Energy, Inc.) | CP-46-0067 | Montgomery | 10/31/97 | 12/15/00; 65 FR 78418 | (c)(143)(i)(B)(36).
Norwood Industries, Inc.—Frazer | OP-15-0014A | Chester | 12/20/96 12/2/99 | 12/15/00; 65 FR 78418 | (c)(143)(i)(B)(37).
NVF Company | OP-15-0030 | Chester | 4/13/99 | 12/15/00; 65 FR 78418 | (c)(143)(i)(B)(38).
Occidental Chemical Corp. (Vinyls Div.)—Pottstown | OP-46-0015 | Montgomery | 11/7/96 | 12/15/00; 65 FR 78418 | (c)(143)(i)(B)(39).
Philadelphia Newspapers, Inc. (Schuylkill Printing Plant) | OP-46-0012 | Montgomery | 8/30/96 3/15/00 | 12/15/00; 65 FR 78418 | (c)(143)(i)(B)(40).
The Proctor and Gamble Paper Products Co. | OP-66-0001 | Wyoming | 4/4/97 | 12/15/00; 65 FR 78418 | (c)(143)(i)(B)(41).
Quebecor Printing Atglen, Inc.—Atglen | OP-15-0002 | Chester | 12/10/96 | 12/15/00; 65 FR 78418 | (c)(143)(i)(B)(42).
Sartomer Company, Inc | OP-15-0015 | Chester | 1/17/96 3/25/98 | 12/15/00; 65 FR 78418 | (c)(143)(i)(B)(43).
Siberline Manufacturing Co. | OP-54-0041 | Schuylkill | 4/19/99 | 12/15/00; 65 FR 78418 | (c)(143)(i)(B)(44).
SmithKline Beecham Research Co. (formerly Sterling Winthrop, Inc.) | OP-46-0031 | Montgomery | 10/31/97 5/1/98 | 12/15/00; 65 FR 78418 | (c)(143)(i)(B)(45).
Sullivan Graphics, Inc.—York | OP-67-2023 | York | 8/22/95 | 12/15/00; 65 FR 78418 | (c)(143)(i)(B)(46).
Sun Company, Inc (R&M) (formerly Chevron USA)—Tinicum | OP-23-0010 | Delaware | 10/31/96 | 12/15/00; 65 FR 78418 | (c)(143)(i)(B)(47).
Sun Company, Inc (R&M) (formerly Chevron USA)—Darby | OP-23-0011 | Delaware | 10/31/96 | 12/15/00; 65 FR 78418 | (c)(143)(i)(B)(48).
Universal Packaging Corporation | OP-46-0156 | Montgomery | 4/8/99 | 12/15/00; 65 FR 78418 | (c)(143)(i)(B)(49).
Zenith Products Corp.—Aston | OP-23-0008 | Delaware | 4/7/97 | 12/15/00; 65 FR 78418 | (c)(143)(i)(B)(50).
Budd Company | PLID 51-1564 | Philadelphia | 12/28/95 | 12/15/00; 65 FR 78418 | (c)(143)(i)(B)(51).
Bellevue Cogeneration Plant | PLID (51-) 6513 | Philadelphia | 4/10/95 | 12/15/00; 65 FR 78418 | (c)(143)(i)(B)(52).
MSC Pre-Finish Metals, Inc.—Morrisville | OP-09-0030 | Bucks | 11/7/96 3/31/98 | 12/15/00; 65 FR 78418 | (c)(143)(i)(B)(53).
Temple University, Health Sciences Center | PLID (51-) 8906 | Philadelphia | 5/27/95 | 12/15/00; 65 FR 78418 | (c)(143)(i)(B)(54).
TRIGEN—Schuylkill Station | PLID (51-)4942 | Philadelphia | 5/29/95 | 12/15/00; 65 FR 78418 | (c)(143)(i)(B)(55).
TRIGEN—Edison Station | PLID (51-)4902 | Philadelphia | 5/29/95 | 12/15/00; 65 FR 78418 | (c)(143)(i)(B)(56).
Advanced Glassfiber Yarns LLC (formerly Owens Corning)—Huntingdon | OP-31-02002 | Huntingdon | 4/13/99 | 08/06/01; 66 FR 40891 | (c)(149)(i)(B)(1).
Armstrong World Industries, Inc.—Beech Creek | OP-18-0002 | Clinton | 7/6/95 | 08/06/01; 66 FR 40891 | (c)(149)(i)(B)(2).
Bemis Company, Film Division | OP-40-0007A | Luzerne | 10/10/95 | 08/06/01; 66 FR 40891 | (c)(149)(i)(B)(3).
Brentwood Industries, Inc | PA-06-1006A | Berks | 6/3/99 | 08/06/01; 66 FR 40891 | (c)(149)(i)(B)(4).
Certainteed Corp.—Mountaintop | OP-40-0010 | Luzerne | 5/31/96 | 08/06/01; 66 FR 40891 | (c)(149)(i)(B)(5).
CNG Transmission Corp.—Ardell Station | OP-24-120 | Elk | 9/30/95 | 08/06/01; 66 FR 40891 | (c)(149)(i)(B)(6).
CNG Transmission Corp.—Finnefrock Station | PA-18-0003A | Clinton | 2/29/96 | 08/06/01; 66 FR 40891 | (c)(149)(i)(B)(7).
Consol Pennsylvania Coal Company—Bailey Prep Plant | OP-30-000-072 | Greene | 3/23/99 | 08/06/01; 66 FR 40891 | (c)(149)(i)(B)(8).
Consolidated Rail Corp. (CONRAIL)—Hollidaysburg Car Shop | OP-07-2002 | Blair | 8/29/95 | 08/06/01; 66 FR 40891 | (c)(149)(i)(B)(9).
Consolidated Rail Corp. (CONRAIL)—Juniata | OP-07-2003 | Blair | 8/29/95 | 08/06/01; 66 FR 40891 | (c)(149)(i)(B)(10).
Containment Solutions, Inc. (formerly called Fluid Containment—Mt. Union) | OP- 31-02005 | Huntingdon | 4/9/99 | 08/06/01; 66 FR 40891 | (c)(149)(i)(B)(11).
Cooper Energy Systems, Grove City | OP- 43-003 | Mercer | 7/25/96 | 08/06/01; 66 FR 40891 | (c)(149)(i)(B)(12).
Cyprus Cumberland Resources Corp | OP-30-000-040 | Greene | 3/26/99 | 08/06/01; 66 FR 40891 | (c)(149)(i)(B)(13).
Defense Distribution—Susquehanna | OP-67-02041 | York | 2/1/00 | 08/06/01; 66 FR 40891 | (c)(149)(i)(B)(14).
EMI Company | OP-25-070 | Erie | 10/24/96 | 08/06/01; 66 FR 40891 | (c)(149)(i)(B)(15).
Empire Sanitary Landfill, Inc. | OP-35-0009 | Lackawanna | 10/17/96 | 08/06/01; 66 FR 40891 | (c)(149)(i)(B)(16).
Equitrans, Inc.—Rogersville Station | (OP)30-000-109 | Greene | 7/10/95 | 08/06/01; 66 FR 40891 | (c)(149)(i)(B)(17).
Equitrans, Inc.—Pratt Station | (OP)30-000-110 | Greene | 7/10/95 | 08/06/01; 66 FR 40891 | (c)(149)(i)(B)(18).
Erie Coke Corporation—Erie | OP-25-029 | Erie | 6/27/95 | 08/06/01; 66 FR 40891 | (c)(149)(i)(B)(19).
Fleetwood Folding Trailers, Inc.—Somerset | (OP)56-000-151 | Somerset | 2/28/96 | 08/06/01; 66 FR 40891 | (c)(149)(i)(B)(20).
Gichner Systems Group, Inc | (OP)67-2033 | York | 8/5/97 | 08/06/01; 66 FR 40891 | (c)(149)(i)(B)(21).
Offset Paperback Manufacturers, Inc.—Dallas | (OP)40-0008 | Luzerne | 4/16/99 | 08/06/01; 66 FR 40891 | (c)(149)(i)(B)(22).
Overhead Door Corporation—Mifflin County | (OP)44-2011 | Mifflin | 6/4/97 | 08/06/01; 66 FR 40891 | (c)(149)(i)(B)(23).
SANYO Audio Manufacturing (USA) Corp | (OP)44-2003 | Mifflin | 6/30/95 | 08/06/01; 66 FR 40891 | (c)(149)(i)(B)(24).
Stroehmann Bakeries—Luzerne County | (OP)40-0014A | Luzerne | 5/30/95 | 08/06/01; 66 FR 40891 | (c)(149)(i)(B)(25).
Merck and Co., Inc.—West Point Facility | OP-46-0005 | Montgomery | 1/13/97 6/23/00 | 04/18/01; 66 FR 19858 | (c)(154)(i)(D).
Amerada Hess Corp | PA-PLID (51-)5009 | Philadelphia | 5/29/95 | 10/31/01; 66 FR 54936 | (c)(156)(i)(B)(1).
Amoco Oil Company | PA-PLID (51-)5011 | Philadelphia | 5/29/95 | 10/31/01; 66 FR 54936 | (c)(156)(i)(B)(2).
Cartex Corporation | OP-09-0076 | Bucks | 4/9/99 | 10/31/01; 66 FR 54936 | (c)(156)(i)(B)(3).
Exxon Company, USA | PA-PLID (51-)5008 | Philadelphia | 5/29/95 | 10/31/01; 66 FR 54936 | (c)(156)(i)(B)(4).
GATX Terminals Corporation | PA-PLID (51-)5003 | Philadelphia | 5/29/95 | 10/31/01; 66 FR 54936 | (c)(156)(i)(B)(5).
Hatfield Quality Meats, Inc.—Hatfield | OP-46-0013A | Montgomery | 1/9/97 10/1/98 | 10/31/01; 66 FR 54936 | (c)(156)(i)(B)(6).
J. L. Clark, Inc | OP-36-02009 | Lancaster | 4/16/99 | 10/31/01; 66 FR 54936 | (c)(156)(i)(B)(7).
Johnson Matthey, Inc.—Wayne | OP-15-0027 | Chester | 8/3/98 4/15/99 | 10/31/01; 66 FR 54936 | (c)(156)(i)(B)(8).
Kurz Hastings, Inc. | PA-PLID (51-)1585 | Philadelphia | 5/29/95 | 10/31/01; 66 FR 54936 | (c)(156)(i)(B)(9).
Lawrence McFadden, Inc. | PA-PLID (51-)2074 | Philadelphia | 6/11/97 | 10/31/01; 66 FR 54936 | (c)(156)(i)(B)(10).
Philadelphia Baking Company | PA-PLID (51-)3048 | Philadelphia | 4/10/95 | 10/31/01; 66 FR 54936 | (c)(156)(i)(B)(11).
Philadelphia Gas Works—Passyunk | PA-PLID (51-)4921 | Philadelphia | 5/29/95 | 10/31/01; 66 FR 54936 | (c)(156)(i)(B)(12).
PPG Industries, Inc. (BASF) | OP-23-0005 | Delaware | 6/4/97 | 10/31/01; 66 FR 54936 | (c)(156)(i)(B)(13).
SmithKline Beecham Pharmaceuticals | OP-46-0035 | Montgomery | 3/27/97 10/20/98 | 10/31/01; 66 FR 54936 | (c)(156)(i)(B)(14).
Teva Pharmaceuticals USA (formerly Lemmon company) | OP-09-0010 | Bucks | 4/9/99 | 10/31/01; 66 FR 54936 | (c)(156)(i)(B)(15).
The Philadelphian Condominium Building | PA-PLID (51-)6512 | Philadelphia | 5/29/95 | 10/31/01; 66 FR 54936 | (c)(156)(i)(B)(16).
Warner Company | OP-15-0001 | Chester | 7/17/95 | 10/31/01; 66 FR 54936 | (c)(156)(i)(B)(17).
Webcraft Technologies, Inc | OP-09-0009 | Bucks | 4/18/96 10/15/98 | 10/31/01; 66 FR 54936 | (c)(156)(i)(B)(18).
Latrobe Steel Company—Latrobe | OP- 65-000-016 | Westmoreland | 12/22/95 | 10/16/01; 66 FR 52517 | (c)(158)(i)(B).
Allegheny Ludlum Corporation—Brackenridge | CO-260 | Allegheny | 12/19/96 | 10/18/01; 66 FR 52851 | (c)(159)(i)(B).
Kosmos Cement Co.—Neville Island Facility | EO-208 | Allegheny | 12/19/96 | 10/18/01; 66 FR 52857 | (c)(160)(i)(B)(1).
Armstrong Cement and Supply Company.—Cabot | OP-10-028 | Butler | 3/31/99 | 10/18/01; 66 FR 52857 | (c)(160)(i)(B)(2).
Duquesne Light Company—Cheswick Power Station | CO-217 | Allegheny | 3/8/96 | 10/18/01; 66 FR 52867 | (c)(161)(i)(B)(1).
Duquesne Light Company—Elrama Plant | (PA)63-000-014 | Washington | 12/29/94 | 10/18/01; 66 FR 52867 | (c)(161)(i)(B)(2).
Pennsylvania Electric Co. (PENELEC)—Keystone Generating Station | (PA-)03-000-027 | Armstrong | 12/29/94 | 10/18/01; 66 FR 52867 | (c)(161)(i)(B)(3).
IDL, Incorporated | CO-225 | Allegheny | 7/18/96 | 10/18/01; 66 FR 52862 | (c)(162)(i)(B)(1).
Oakmont Pharmaceutical, Inc | CO-252 | Allegheny | 12/19/96 | 10/18/01; 66 FR 52862 | (c)(162)(i)(B)(2).
U.S. Air, Inc | CO-255 | Allegheny | 1/14/97 | 10/18/01; 66 FR 52862 | (c)(162)(i)(B)(3).
Lukens Steel Corporation—Houston Plant | (OP)63-000-080 | Washington | 2/22/99 | 10/16/01; 66 FR 52522 | (c)(163)(i)(B)(1).
Allegheny Ludlum Steel Corporation—West Leechburg Plant | (OP)65-000-183 | Westmoreland | 3/23/99 | 10/16/01; 66 FR 52522 | (c)(163)(i)(B)(2).
(Allegheny Ludlum Corporation) Jessop Steel Company—Washington Plant | (OP)63-000-027 | Washington | 3/26/99 | 10/16/01; 66 FR 52522 | (c)(163)(i)(B)(3).
Koppel Steel Corporation—Koppel Plant | (OP)04-000-059 | Beaver | 3/23/01 | 10/16/01; 66 FR 52522 | (c)(163)(i)(D).
Consolidated Natural Gas (CNG) Transmission Corp.—Beaver Station | OP-04-000-490 | Beaver | 6/23/95 | 10/12/01; 66 FR 52055 | (c)(164)(i)(B)(1).
Consolidated Natural Gas (CNG) Transmission Corp.—Oakford Compressor Station | OP-65-000-837— | Westmoreland | 10/13/95 | 10/12/01; 66 FR 52055 | (c)(164)(i)(B)(2).
Consolidated Natural Gas (CNG) Transmission Corp.—South Oakford Station | (OP)65-000-840 | Westmoreland | 10/13/95 | 10/12/01; 66 FR 52055 | (c)(164)(i)(B)(3).
Consolidated Natural Gas (CNG) Transmission Corp.—Tonkin Compressor Station | (OP)65-000-634 | Westmoreland | 10/13/95 | 10/12/01; 66 FR 52055 | (c)(164)(i)(B)(4).
Consolidated Natural Gas (CNG) Transmission Corp.—Jeannette Station | (OP)65-000-852 | Westmoreland | 10/13/95 | 10/12/01; 66 FR 52055 | (c)(164)(i)(B)(5).
Carnegie Natural Gas Co.—Creighton Station | EO-213 | Allegheny | 5/14/96 | 10/12/01; 66 FR 52055 | (c)(164)(i)(B)(6).
Texas Eastern Transmission Corp.—Uniontown Station | (OP)26-000-413 | Fayette | 12/20/96 | 10/12/01; 66 FR 52055 | (c)(164)(i)(B)(7).
Consolidated Natural Gas (CNG) Transmission Corp.—South Bend Station | OP-03-000-180 | Armstrong | 12/2/98 | 10/12/01; 66 FR 52055 | (c)(164)(i)(B)(8).
Pruett Schaffer Chemical Company | CO-266 | Allegheny | 9/2/98 | 10/12/01; 66 FR 52050 | (c)(165)(i)(B)(1).
PPG Industries, Inc.—Spingdale | CO-254 | Allegheny | 12/19/96 | 10/12/01; 66 FR 52050 | (c)(165)(i)(B)(2).
Reichhold Chemicals, Inc.—Bridgeville | CO-218 | Allegheny | 12/19/96 | 10/12/01; 66 FR 52050 | (c)(165)(i)(B)(3) [NOX RACT].
Reichhold Chemicals, Inc.—Bridgeville | CO-219 | Allegheny | 2/21/96 | 10/12/01; 66 FR 52050 | (c)(165)(i)(B)(4) [VOC RACT].
Valspar Corporation—Pittsburgh | CO-209 | Allegheny | 3/8/96 | 10/12/01; 66 FR 52050 | (c)(165)(i)(B)(5).
Ashland Chemical Corporation | CO-227 | Allegheny | 12/30/96 | 10/16/01; 66 FR 52506 | (c)(166)(i)(B)(1).
Hercules, Inc.—West Elizabeth | EO-216 | Allegheny | 3/8/96 | 10/16/01; 66 FR 52506 | (c)(166)(i)(B)(2).
Hercules, Inc.—West Elizabeth | CO-257 | Allegheny | 1/14/97 11/1/99 | 10/16/01; 66 FR 52506 | (c)(166)(i)(B)(3).
Neville Chemical Company | CO-230 | Allegheny | 12/13/96 | 10/16/01; 66 FR 52506 | (c)(166)(i)(B)(4).
Anchor Glass Container Corp.—Plant 5 | (PA)26-000-119 | Fayette | 12/20/96 | 10/16/01; 66 FR 52527 | (c)(167)(i)(B)(1).
Anchor Hocking Specialty Glass Co.—Phoenix Glass Plant | (OP)04-000-084 | Beaver | 10/13/95 | 10/16/01; 66 FR 52527 | (c)(167)(i)(B)(2).
Corning Consumer Products Co.—Charleroi Plant | (PA)63-000-110 | Washington | 1/4/96 | 10/16/01; 66 FR 52527 | (c)(167)(i)(B)(3).
General Electric Company | CO-251 | Allegheny | 12/19/96 | 10/16/01; 66 FR 52527 | (c)(167)(i)(B)(4).
Glenshaw Glass Company, Inc | CO-270 | Allegheny | 3/10/00 | 10/16/01; 66 FR 52527 | (c)(167)(i)(B)(5).
Guardian Industries Corp | CO-242 | Allegheny | 8/27/96 | 10/16/01; 66 FR 52527 | (c)(167)(i)(B)(6).
Allegheny County Sanitary Authority | CO-222 | Allegheny | 5/14/96 | 10/16/01; 66 FR 52527 | (c)(167)(i)(B)(7).
Browning-Ferris Industries | CO-231A | Allegheny | 4/28/97 | 10/16/01; 66 FR 52527 | (c)(167)(i)(B)(8).
Chambers Development Company—Monroeville Borough Landfill | CO-253 | Allegheny | 12/30/96 | 10/16/01; 66 FR 52527 | (c)(167)(i)(B)(9).
Kelly Run Sanitation, Forward Township Landfill | CO-236 | Allegheny | 1/23/97 | 10/16/01; 66 FR 52527 | (c)(167)(i)(B)(10).
Stroehmann Bakeries—Montgomery County (Norristown) | PA-46-0003 | Montgomery | 5/4/95 | 10/31/01; 66 FR 54942 | (c)(169)(i)(B)(1).
Schlosser Steel, Inc | OP-46-0051 | Montgomery | 2/1/96 | 10/31/01; 66 FR 54942 | (c)(169)(i)(B)(2).
Perkasie Industries Corp.—Perkasie | OP-09-0011 | Bucks | 8/14/96 | 10/31/01; 66 FR 54942 | (c)(169)(i)(B)(3).
Quaker Chemical Corporation—Conshohocken | OP-46-0071 | Montgomery | 9/26/96 | 10/31/01; 66 FR 54942 | (c)(169)(i)(B)(4).
Worthington Steel Company | OP-15-0016 | Chester | 7/23/96 | 10/31/01; 66 FR 54942 | (c)(169)(i)(B)(5).
Transcontinental Gas Pipeline Corp.—Sta. 200, Frazer | PA-15-0017 | Chester | 6/5/95 | 10/31/01; 66 FR 54942 | (c)(169)(i)(B)(6).
Rohm and Haas Company, Bucks County Plant | OP-09-0015 | Bucks | 4/20/99 | 10/31/01; 66 FR 54942 | (c)(169)(i)(B)(7).
SEPTA-Berridge/Courtland Maintenance Shop | PA-51-4172 | Philadelphia | 7/27/99 | 10/31/01; 66 FR 54942 | (c)(169)(i)(B)(8).
Southwest Water Pollution Control Plant/Biosolids Recycling Center | PA-51-9515 | Philadelphia | 7/27/99 | 10/31/01; 66 FR 54942 | (c)(169)(i)(B)(9).
Rohm and Haas Company—Philadelphia Plant | PA-51-1531 | Philadelphia | 7/27/99 | 10/31/01; 66 FR 54942 | (c)(169)(i)(B)(10).
Sunoco Inc. (R&M)—Philadelphia | PA(51-)1501 PA(51-)1517 | Philadelphia | 8/1/00 | 10/31/01; 66 FR 54942 | (c)(169)(i)(B)(11).
SBF Communications (owned by Avant Garde Ent.) | PA(51-)2197 | Philadelphia | 7/21/00 | 10/31/01; 66 FR 54942 | (c)(169)(i)(B)(12).
Smith-Edwards-Dunlap Company | PA-(51-)2255 | Philadelphia | 7/14/00 | 10/31/01; 66 FR 54942 | (c)(169)(i)(B)(13).
Tasty Baking Co | PLID (51-)2054 | Philadelphia | 4/9/95 | 10/31/01; 66 FR 54942 | (c)(169)(i)(B)(14).
Armstrong World Industries, Inc.—Beaver Falls Plant | (OP)04-000-108 | Beaver | 5/29/96 | 10/17/01; 66 FR 52695 | (c)(170)(i)(B)(1).
Bacharach, Inc | CO-263 | Allegheny | 10/10/97 | 10/17/01; 66 FR 52695 | (c)(170)(i)(B)(2).
Bakerstown Container Corporation | CO-221 | Allegheny | 5/14/96 | 10/17/01; 66 FR 52695 | (c)(170)(i)(B)(3).
Chestnut Ridge Foam, Inc.—Latrobe | (OP)65-000-181 | Westmoreland | 12/29/95 | 10/17/01; 66 FR 52695 | (c)(170)(i)(B)(4).
Flexsys America LP, Monongahela Plant | (OP)63-000-015 | Washington | 3/23/01 | 10/17/01; 66 FR 52695 | (c)(170)(i)(B)(5).
Haskell of Pittsburgh, Inc | CO-224 | Allegheny | 12/19/96 | 10/17/01; 66 FR 52695 | (c)(170)(i)(B)(6).
Three Rivers Aluminum Company (TRACO) | OP-10-267 | Butler | 3/1/01 | 10/17/01; 66 FR 52695 | (c)(170)(i)(B)(7).
Tuscarora Plastics, Inc | (OP)04-000-497 | Beaver | 4/3/96 | 10/17/01; 66 FR 52695 | (c)(170)(i)(B)(8).
Witco Corporation | CO-210 | Allegheny | 5/14/96 | 10/17/01; 66 FR 52695 | (c)(170)(i)(B)(9).
GenCorp (Plastic Films Division)—Jeannette Plant | (OP)65-000-207 | Westmoreland | 1/4/96 | 10/15/01; 66 FR 52322 | (c)(171)(i)(B).
CENTRIA—Ambridge Coil Coating Operations Plant | (OP)04-000-043 | Beaver | 5/17/99 | 10/15/01; 66 FR 52322 | (c)(171)(i)(D).
J & L Structural, Inc.—Aliquippa | OP-04-000-467 | Beaver | 6/23/95 | 10/16/01; 66 FR 52511 | (c)(172)(i)(B)(1).
Universal Stainless & Alloy Products, Inc | CO-241 | Allegheny | 12/19/96 | 10/16/01; 66 FR 52511 | (c)(172)(i)(B)(2).
Shenango, Inc | CO-233 | Allegheny | 12/30/96 | 10/16/01; 66 FR 52511 | (c)(172)(i)(B)(3).
LTV Steel Company | CO-259 | Allegheny | 12/30/96 | 10/16/01; 66 FR 52511 | (c)(172)(i)(B)(4).
U.S. Steel (USX Corporation.)—Clairton Works | CO-234 | Allegheny | 12/30/96 | 10/16/01; 66 FR 52511 | (c)(172)(i)(B)(5).
USX Corporation—Edgar Thomson Works | CO-235 | Allegheny | 12/30/96 | 10/16/01; 66 FR 52511 | (c)(172)(i)(B)(6).
USX, Inc.—Irvin Works | CO-258 | Allegheny | 12/30/96 | 10/16/01; 66 FR 52511 | (c)(172)(i)(B)(7).
Wheeling-Pittsburgh Steel Corporation—Allenport Plant | (OP)63-000-066 | Washington | 2/8/99 | 10/16/01; 66 FR 52511 | (c)(172)(i)(B)(8).
Koppers—Monessen Coke Plant | (OP)65-000-853 | Westmoreland | 3/20/98 | 10/16/01; 66 FR 52511 | (c)(172)(i)(B)(9).
J & L Specialty Steel, Inc.—Midland Facility | (OP)04-000-013 | Beaver | 3/23/01 | 10/16/01; 66 FR 52511 | (c)(172)(i)(B)(10).
Washington Steel Corp.—Washington Plant | (OP)63-000-023 | Washington | 9/12/96 | 10/16/01; 66 FR 52511 | (c)(172)(i)(B)(11).
Equitrans, Inc.—Hartson | (OP)63-000-642 | Washington | 7/10/95 | 10/17/01; 66 FR 52705 | (c)(173)(i)(B)(1).
Witco Corp.—Petrolia Facility | PA-10-037 | Butler | 6/27/95 | 10/17/01; 66 FR 52705 | (c)(173)(i)(B)(2).
Ranbar Electrical Materials Inc. (formerly Westinghouse Electric Co. EMD—Manor | (OP)65-000-042 | Westmoreland | 2/22/99 | 10/17/01; 66 FR 52705 | (c)(173)(i)(B)(3).
Nova Chemicals, Inc. (formerly Arco Chemical Co.—Beaver Valley) | (OP)04-000-033 | Beaver | 4/16/99 1/24/01 | 10/17/01; 66 FR 52705 | (c)(173)(i)(B)(4).
BASF Corporation—Monaca Site | (OP)04-000-306 | Beaver | 3/23/01 | 10/17/01; 66 FR 52705 | (c)(173)(i)(B)(5).
Cardone Industries—Rising Sun Ave | PA(51-) PLID 3887 | Philadelphia | 5/29/95 | 10/30/01; 66 FR 54710 | (c)(174)(i)(B)(1).
Cardone Industries—Chew St | PA(51-) PLID 2237 | Philadelphia | 5/29/95 | 10/30/01; 66 FR 54710 | (c)(174)(i)(B)(2).
U.S. Navy, Naval Surface Warfare Center—Carderock Division | PA(51-)9724 | Philadelphia | 12/27/97 | 10/30/01; 66 FR 54710 | (c)(174)(i)(B)(3).
Wheelabrator Falls, Inc | OP-09-0013 | Bucks | 1/11/96 5/17/96 | 10/30/01; 66 FR 54710 | (c)(174)(i)(B)(4).
US Steel Group/USX Corporation—Fairless Works | OP-09-0006 | Bucks | 4/8/99 | 10/30/01; 66 FR 54710 | (c)(174)(i)(B)(5).
Brown Printing Company | OP-46-0018A | Montgomery | 5/17/00 | 10/30/01; 66 FR 54710 | (c)(174)(i)(B)(6).
Sun Chemical—General Printing Ink Division | PA(51-)2052 | Philadelphia | 7/14/00 | 10/30/01; 66 FR 54710 | (c)(174)(i)(B)(7).
Sunoco Chemicals, Frankford Plant | PA(51-)1551 | Philadelphia | 7/27/99 | 10/30/01; 66 FR 54710 | (c)(174)(i)(B)(8).
Armco, Inc. Butler Operations Main Plant | PA-10-001M | Butler | 2/23/96 | 10/15/01; 66 FR 52338 | (c)(175)(i)(B).
Armco, Inc. Butler Operations Stainless Plant | PA-10-001S | Butler | 2/23/96 | 10/15/01; 66 FR 52338 | (c)(175)(i)(C).
Pennsylvania Power Co.—Bruce Mansfield Plant | (PA)04-000-235 | Beaver | 12/29/94 | 10/15/01; 66 FR 52333 | (c)(176)(i)(B)(1).
West Penn Power Co.—Mitchell Station | (PA)63-000-016 | Washington | 6/12/95 | 10/15/01; 66 FR 52333 | (c)(176)(i)(B)(2).
Carnegie Natural Gas Company—Fisher Station | (OP)03-000-182 | Armstrong | 12/2/98 | 10/15/01; 66 FR 52333 | (c)(176)(i)(B)(3).
Apollo Gas Company—Shoemaker Station | (OP)03-000-183 | Armstrong | 9/12/96 | 10/15/01; 66 FR 52333 | (c)(176)(i)(B)(4).
Texas Eastern Transmission Corp.—Delmont Station | (OP)65-000-839 | Westmoreland | 1/9/97 | 10/15/01; 66 FR 52333 | (c)(176)(i)(B)(5).
The Peoples Natural Gas Co.—Valley Station | (OP)03-000-125 | Armstrong | 10/31/94 | 10/15/01; 66 FR 52333 | (c)(176)(i)(B)(6).
The Peoples Natural Gas Co.—Girty Compressor Station | (PA)03-000-076 | Armstrong | 10/27/95 | 10/15/01; 66 FR 52333 | (c)(176)(i)(B)(7).
AES Beaver Valley Partners—Monaca Plant | (OP)04-000-446 | Beaver | 3/23/01 | 10/15/01; 66 FR 52333 | (c)(176)(i)(B)(8).
Penreco—Karns City | OP10-0027 | Butler | 5/31/95 | 10/12/01; 66 FR 52044 | (c)(177)(i)(B)(1).
Ashland Petroleum Company | CO-256 | Allegheny | 12/19/96 | 10/12/01; 66 FR 52044 | (c)(177)(i)(B)(2).
Bellefield Boiler Plant—Pittsburgh | EO-248 | Allegheny | 12/19/96 | 10/12/01; 66 FR 52044 | (c)(177)(i)(B)(3).
Gulf Oil, L.P | CO-250 | Allegheny | 12/19/96 | 10/12/01; 66 FR 52044 | (c)(177)(i)(B)(4).
PA Dept. of Corrections | EO-244 | Allegheny | 1/23/97 | 10/12/01; 66 FR 52044 | (c)(177)(i)(B)(5).
Pittsburgh Thermal Limited Partnership | CO-220 | Allegheny | 3/4/96 | 10/12/01; 66 FR 52044 | (c)(177)(i)(B)(6).
BP Exploration & Oil, Inc.—Greensburg Terminal | (OP)65-000-378 | Westmoreland | 3/23/01 | 10/12/01; 66 FR 52044 | (c)(177)(i)(B)(7).
Pittsburgh Allegheny County Thermal, Ltd | CO-265 | Allegheny | 11/9/98 | 10/12/01; 66 FR 52044 | (c)(177)(i)(B)(8).
Aristech Chemical Corporation | CO-232 | Allegheny | 12/30/96 | 10/17/01; 66 FR 52700 | (c)(178)(i)(B)(1).
Heinz U.S.A.—Pittsburgh | EO-211 | Allegheny | 3/8/96 | 10/17/01; 66 FR 52700 | (c)(178)(i)(B)(2).
Heinz U.S.A.—Pittsburgh | CO-247 | Allegheny | 10/24/96 | 10/17/01; 66 FR 52700 | (c)(178)(i)(B)(2).
Koppers Industries, Inc. (Aristech Chem. Corp) | CO-223 | Allegheny | 8/27/96 | 10/17/01; 66 FR 52700 | (c)(178)(i)(B)(3).
Nabisco Biscuit Co | CO-246 | Allegheny | 12/19/96 | 10/17/01; 66 FR 52700 | (c)(178)(i)(B)(4).
Pressure Chemical Co | CO-261 | Allegheny | 6/11/97 | 10/17/01; 66 FR 52700 | (c)(178)(i)(B)(5).
General Carbide Corp | (OP)65-000-622 | Westmoreland | 12/29/95 | 10/17/01; 66 FR 52700 | (c)(178)(i)(B)(6).
Fansteel Hydro Carbide | (OP)65-000-860 | Westmoreland | 12/12/97 | 10/17/01; 66 FR 52700 | (c)(178)(i)(B)(7).
Carbide Corporation | (OP)65-000-720 | Westmoreland | 7/31/98 | 10/17/01; 66 FR 52700 | (c)(178)(i)(B)(8).
Dyno Nobel Inc—Donora | (OP)63-000-070 | Washington | 3/31/99 | 10/17/01; 66 FR 52700 | (c)(178)(i)(B)(9).
Newcomer Products, Inc | (OP)65-000-851 | Westmoreland | 8/7/97 | 10/17/01; 66 FR 52700 | (c)(178)(i)(B)(10).
PECO Energy Company—Cromby Generating Station | OP-15-0019 | Chester | 4/28/95 | 10/30/01; 66 FR 54699 | (c)(179)(i)(B)(1).
Waste Resource Energy, Inc. (Operator); Shawmut Bank, Conn. National Assoc. (Owner); Delaware County Resource Recovery Facility | OP-23-0004 | Delaware | 11/16/95 | 10/30/01; 66 FR 54699 | (c)(179)(i)(B)(2).
G-Seven, Ltd | OP-46-0078 | Montgomery | 4/20/99 | 10/30/01; 66 FR 54699 | (c)(179)(i)(B)(3).
Leonard Kunkin Associates | OP-09-0073 | Bucks | 6/25/01 | 10/30/01; 66 FR 54699 | (c)(179)(i)(B)(4).
Kimberly-Clark Corporation | OP-23-0014A | Delaware | 6/24/98 8/1/01 | 10/30/01; 66 FR 54699 | (c)(179)(i)(B)(5).
Sunoco, Inc. (R&M); Marcus Hook Plant | CP-23-0001 | Delaware | 6/8/95 8/2/01 | 10/30/01; 66 FR 54699 | (c)(179)(i)(B)(6).
Waste Management Disposal Services of Pennsylvania, Inc. (GROWS Landfill) | OP-09-0007 | Bucks | 12/19/97 7/17/01 | 10/30/01; 66 FR 54699 | (c)(179)(i)(B)(7).
Koppel Steel Corporation—Ambridge Plant | OP-04-000-227 | Beaver | 10/12/00 | 10/15/01; 66 FR 52317 | (c)(180)(i)(B).
General Motors Corporation | CO-243 | Allegheny | 8/27/96 | 10/15/01; 66 FR 52327 | (c)(181)(i)(B)(1).
Oakmont Steel, Inc | CO-226 | Allegheny | 5/14/96 | 10/15/01; 66 FR 52327 | (c)(181)(i)(B)(2).
The Peoples Natural Gas Co | CO-240 | Allegheny | 8/27/96 | 10/15/01; 66 FR 52327 | (c)(181)(i)(B)(3).
U.S. Bureau of Mines | EO-215 | Allegheny | 3/8/96 | 10/15/01; 66 FR 52327 | (c)(181)(i)(B)(4).
Waste Management Disposal Services of Pennsylvania (Pottstown Landfill) | OP-46-0033 | Montgomery | 4/20/99 | 10/30/01; 66 FR 54704 | (c)(182)(i)(B)(1).
FPL Energy MH50, LP (Sunoco, Inc. (R&M)) | PA-23-0084 | Delaware | 7/26/99 | 10/30/01; 66 FR 54704 | (c)(182)(i)(B)(2).
Exelon Generation Company—(PECO)—Richmond Generating Station | PA-51-4903 | Philadelphia | 7/11/01 | 10/30/01; 66 FR 54704 | (c)(182)(i)(B)(3).
Jefferson Smurfit Corp./Container Corp. of America | PLID (PA-51-)1566 | Philadelphia | 4/10/95 | 10/31/01; 66 FR 54947 | (c)(184)(i)(B)(1).
Maritank Philadelphia, Inc | PLID (PA-51-)5013 | Philadelphia | 12/28/95 | 10/31/01; 66 FR 54947 | (c)(184)(i)(B)(2).
Moyer Packing Company | OP-46-0001 | Montgomery | 3/15/96 | 10/31/01; 66 FR 54947 | (c)(184)(i)(B)(3).
Tullytown Resource Recovery Facility (Waste Management of Pa., Inc.) | OP-09-0024 | Bucks | 7/14/97 | 10/31/01; 66 FR 54947 | (c)(184)(i)(B)(4).
SPS Technologies, Inc | OP-46-0032 | Montgomery | 10/30/97 | 10/31/01; 66 FR 54947 | (c)(184)(i)(B)(5).
PECO Energy Company | OP-09-0077 | Bucks | 12/19/97 | 10/31/01; 66 FR 54947 | (c)(184)(i)(B)(6).
Philadelphia Gas Works—Richmond Plant | PA-51-4922 | Philadelphia | 7/27/99 | 10/31/01; 66 FR 54947 | (c)(184)(i)(B)(7).
Exelon Generation Company—Delaware Generating Station | PA-51-4901 | Philadelphia | 7/11/01 | 10/31/01; 66 FR 54947 | (c)(184)(i)(B)(8).
Exelon Generation Company—Schuylkill Generating Station | PA-51-4904 | Philadelphia | 7/11/01 | 10/31/01; 66 FR 54947 | (c)(184)(i)(B)(9).
International Business Systems, Inc | OP-46-0049 | Montgomery | 10/29/98 | 10/30/01; 66 FR 54691 | (c)(185)(i)(B)(1).
Bethlehem Lukens Plate | OP-46-0011 | Montgomery | 12/11/98 | 10/30/01; 66 FR 54691 | (c)(185)(i)(B)(2).
Montenay Montgomery Limited Partnership | OP-46-0010A | Montgomery | 4/20/99 6/20/00 | 10/30/01; 66 FR 54691 | (c)(185)(i)(B)(3).
Northeast Foods, Inc. (Bake Rite Rolls) | OP-09-0014 | Bucks | 4/9/99 | 10/30/01; 66 FR 54691 | (c)(185)(i)(B)(4).
Aldan Rubber Company | PA-(51-)1561 | Philadelphia | 7/21/00 | 10/30/01; 66 FR 54691 | (c)(185)(i)(B)(5).
Braceland Brothers, Inc | PA-(51-)3679 | Philadelphia | 7/14/00 | 10/30/01; 66 FR 54691 | (c)(185)(i)(B)(6).
Graphic Arts, Incorporated | PA-(51-)2260 | Philadelphia | 7/14/00 | 10/30/01; 66 FR 54691 | (c)(185)(i)(B)(7).
O'Brien (Philadelphia) Cogeneration, Inc.—Northeast Water Pollution Control Plant | PA-(51-)1533 | Philadelphia | 7/21/00 | 10/30/01; 66 FR 54691 | (c)(185)(i)(B)(8).
O'Brien (Philadelphia) Cogeneration, Inc.—Southwest Water Pollution Control Plant | PA-(51-)1534 | Philadelphia | 7/21/00 | 10/30/01; 66 FR 54691 | (c)(185)(i)(B)(9).
Pearl Pressman Liberty | PA-(51-)7721 | Philadelphia | 7/24/00 | 10/30/01; 66 FR 54691 | (c)(185)(i)(B)(10).
Arbill Industries, Inc | PA-51-3811 | Philadelphia | 7/27/99 | 10/30/01; 66 FR 54691 | (c)(185)(i)(B)(11).
McWhorter Technologies, Inc | PA-51-3542 | Philadelphia | 7/27/99 | 10/30/01; 66 FR 54691 | (c)(185)(i)(B)(12).
Northeast Water Pollution Control Plant | PA-51-9513 | Philadelphia | 7/27/99 | 10/30/01; 66 FR 54691 | (c)(185)(i)(B)(13).
Newman and Company | PLID (51-)3489 | Philadelphia | 6/11/97 | 10/30/01; 66 FR 54691 | (c)(185)(i)(B)(14).
Allegheny Ludlum Steel Corporation | (OP-)65-000-137 | Westmoreland | 5/17/99 | 10/19/01; 66 FR 53090 | (c)(186)(i)(B)(1).
INDSPEC Chemical Corporation | PA10-021 | Butler | 10/19/98 | 10/19/01; 66 FR 53090 | (c)(186)(i)(B)(2).
Stoney Creek Technologies, L.L.C | PA-23-0002 | Delaware | 2/24/99 | 11/5/01; 66 FR 55880 | (c)(187)(i)(B)(1).
Superpac, Inc | OP-09-0003 | Bucks | 3/25/99 | 11/5/01; 66 FR 55880 | (c)(187)(i)(B)(2).
Transit America, Inc | PLID (51-)1563 | Philadelphia | 6/11/97 | 11/5/01; 66 FR 55880 | (c)(187)(i)(B)(3).
American Bank Note Company | OP-46-0075 | Montgomery | 5/19/97 8/10/98 | 11/5/01; 66 FR 55880 | (c)(187)(i)(B)(4).
Atlas Roofing Corporation—Quakertown | OP-09-0039 | Bucks | 3/10/99 | 11/5/01; 66 FR 55880 | (c)(187)(i)(B)(5).
Beckett Corporation | OP-15-0040 | Chester | 7/8/97 | 11/5/01; 66 FR 55880 | (c)(187)(i)(B)(6).
Klearfold, Inc | OP-09-0012 | Bucks | 4/15/99 | 11/5/01; 66 FR 55880 | (c)(187)(i)(B)(7).
National Label Company | OP-46-0040 | Montgomery | 7/28/97 | 11/5/01; 66 FR 55880 | (c)(187)(i)(B)(8).
Bethlehem Steel Corporation | OP-22-02012 | Dauphin | 4/9/99 | 5/23/02; 67 FR 36108 | (c)(191).
Hershey Chocolate USA | OP-22-2004A | Dauphin | 1/24/00 | 6/26/02; 67 FR 43002 | (c)(194)(i)(B)(1).
Pennsylvania Power Company New Castle Plant | OP-37-0023 | Lawrence | 4/8/99 | 6/26/02; 67 FR 43002 | (c)(194)(i)(B)(2).
Lafarge Corporation | OP-39-0011B | Lehigh | 5/19/97 | 4/1/03; 68 FR 15661 | (c)(196)(i)(B)(1).
The Peoples Natural Gas Company | (OP-)11-000-356 | Cambria | 11/23/94 | 4/1/03; 68 FR 15661 | (c)(196)(i)(B)(2).
Horsehead Resource Development Company, Inc | OP-13-0001 | Carbon | 5/16/95 | 4/1/03; 68 FR 15661 | (c)(196)(i)(B)(3).
Williams Generation Company—Hazelton | OP-40-0031A | Luzerne | 3/10/00 | 4/1/03; 68 FR 15661 | (c)(196)(i)(B)(4).
Pennsylvania Power and Light Company, Holtwood Steam Electric Station | PA-36-2016 | Lancaster | 5/25/95 | 4/1/03; 68 FR 15661 | (c)(196)(i)(B)(5).
General Electric Transportation Systems | OP-25-025A | Erie | 8/26/02 | 4/7/03; 68 FR 16724 | (c)(198)(i)(B).
Bethlehem Structural Products Corporation | OP-48-0013 | Northampton | 10/24/96 | 5/2/03; 68 FR 23404 | (c)(200)(i)(B)(1).
International Paper Company, Erie Mill | PA-25-028 | Erie | 12/21/94 | 5/2/03; 68 FR 23404 | (c)(200)(i)(B)(2).
National Fuel Gas Supply—Heath Compressor Station | PA-33-144A | Jefferson | 10/5/98 | 5/2/03; 68 FR 23404 | (c)(200)(i)(B)(3).
PPG Industries, Inc | OP-20-145 | Crawford | 5/31/95 | 3/24/03; 68 FR14154 | (c)(201)(i)(B).
Dominion Trans., Inc.—Finnefrock Station | Title V-18-00005 | Clinton | 2/16/00 | 5/7/03; 68 FR 24365 | (c)(202)(i)(B)(1).
Textron Lycoming—Oliver Street Plant | Title V-41-00005 | Lycoming | 1/12/01 | 5/7/03; 68 FR 24365 | (c)(202)(i)(B)(2).
Lafayette College, Easton Campus | OP-48-0034 | Northampton | 8/18/97 | 5/20/03; 68 FR 27471 | (c)(205)(i)(B).
Keystone Carbon Company | OP-24-016 | Elk | 5/15/95 | 10/17/03; 68 FR 59741 | (c)(207)(i)(B)(1).
Mack Trucks, Inc | OP-39-0004 | Northampton | 5/31/95 | 10/17/03; 68 FR 59741 | (c)(207)(i)(B)(1).
Owens-Brockway Glass Container, Inc | OP-33-033 | Jefferson | 3/27/95 | 10/17/03; 68 FR 59741 | (c)(207)(i)(B)(1).
Resilite Sport Products, Inc | OP-49-0003 | Northumberland | 12/3/96 | 10/17/03; 68 FR 59741 | (c)(207)(i)(B)(1).
Westfield Tanning Company | OP-59-0008 | Tioga | 11/27/96 | 10/17/03; 68 FR 59741 | (c)(207)(i)(B)(1).
Tarkett, Incorporated | OP-39-0002 | Lehigh | 5/31/95 | 8/6/03 68 FR 46487 | (c)(208)(i)(B)(1).
Hacros Pigments, Inc | OP-48-0018 | Northampton | 7/31/96 | 8/6/03; 68 FR 46487 | (c)(208)(i)(B)(2).
GPU Generation Corp., Homer City Station | (OP-)32-000-055 | Indiana | 10/29/98 | 10/15/03; 68 FR 59321 | (c)(212)(i)(B)(1).
GPU Generation Corp., Seward Station | (OP-)32-000-040 | Indiana | 4/30/98 | 10/15/03; 68 FR 59321 | (c)(212)(i)(B)(2).
Ebensburg Power Company, Ebensburg Cogeneration Plant | (OP-)11-000-318 | Cambria | 3/28/01 | 10/15/03; 68 FR 59321 | (c)(212)(i)(B)(3).
Sithe Pennsylvania Holdings, LLC, Warren Station | OP-62-012B | Warren | 1/20/00 | 10/15/03; 68 FR 59321 | (c)(212)(i)(B)(4).
Pennsylvania Power & Light Company, Sunbury SES | OP-55-0001A | Snyder | 7/7/97 | 10/15/03; 68 FR 59321 | (c)(212)(i)(B)(5).
Lakeview Landfill | OP-25-920 | Erie | 5/29/97 | 10/15/03; 68 FR 59321 | (c)(212)(i)(B)(6).
National Fuel Gas Supply Corp.—Roystone Compressor Station | OP 62-141F | Warren | 4/1/0369 | 10/27/04; FR 62583 | (c)(213)(i)(B)(1).
Crompton Corporation, Fairview Township | OP-10-037 | Butler | 6/4/03 | 5/25/04; 69 FR 29444 | (c)(213)(i)(B)(2).
Andritz, Inc | 41-00010C | Lycoming | 4/30/03 | 10/15/03; 68 FR 59318 | (c)(214)(i)(B)(1).
Brodart Company | 18-0007A | Clinton | 4/8/03 | 10/15/03; 68 FR 59318 | (c)(214)(i)(B)(2).
Erie Sewer Authority | OP-25-179 | Erie | 6/5/03 | 10/15/03; 68 FR 59318 | (c)(214)(i)(B)(3).
Hercules Cement Company | OP-48-0005A | Northampton | 4/16/99 | 11/24/03; 68 FR 65846 | (c)(217)(i)(B).
Tennessee Gas Pipeline Company, Station 321 | OP 58-00001A | Susquehanna | 4/16/98 | 10/27/04; 69 FR 62585 | (c)(218)(i)(B)(1); The SIP effective date is 12/27/04.
Tennessee Gas Pipeline Company, Station 219 | OP 43-0272 | Mercer | 4/7/99 | 10/27/04; 69 FR 62585 | (c)(218)(i)(B)(2); The SIP effective date is 12/27/04.

(2) EPA-Approved Volatile Organic Compounds (VOC) Emissions Trading Programs
Name of source | Permit Number | County | State effective date | EPA approval date | Additional explanation/ § 52.2063 citation
National Can Company Fres-co Systems, USA Inc. Paramount Packaging Corp | 85-524; 85-525 | Bucks | 3/1/85 | 4/21/88; 53 FR 13121 | (c)(68); transfer of offsets from NCCo to Fres-co and Paramount.

(3) EPA-Approved Source Specific Sulfur Dioxide (SO2) Requirements
Name of source | Permit Number | County | State effective date | EPA approval date | Additional explanation/ § 52.2063 citation
USX Corporation, Clairton Coke Works | 200 | Allegheny | 11/17/94 | 8/18/95; 60 FR 43012 | (c)(99).
Reliant Energy Mid-Atlantic Power Holdings LLC, Warren Generating Station | SO2-62-00012 | Warren | 11/21/01 | 1/17/03; 68 FR 2459 | (c)(190)(i)(C)(1).
United Refining Company | SO2-62-017E | Warren | 6/11/01 | 1/17/03; 68 FR 2459 | (c)(190)(i)(C)(2).
Trigen-Philadelphia Energy Corporation | SO2-95-002 | Philadelphia | 7/27/00 | 9/9/02; 67 FR 57155 | (c)(193)(i)(B)(1).
Grays Ferry Cogeneration Partnership | SO2-95-002A | Philadelphia | 7/27/00 | 9/9/02; 67 FR 57155 | (c)(193)(i)(B)(2).
PECO Energy Company, Schuylkill Generating Station | SO2-95-006 | Philadelphia | 7/27/00 | 9/9/02; 67 FR 57155 | (c)(193)(i)(B)(3).
Sunoco, Inc. (R&M) Philadelphia Refinery | SO2-95-039 | Philadelphia | 7/27/00 | 9/9/02; 67 FR 57155 | (c)(193)(i)(B)(4).

(4) EPA-Approved Source Specific Lead (Pb) Requirements
Name of source | Permit Number | County | State effective date | EPA approval date | Additional explanation/ § 52.2063 citation
East Penn Manufacturing Corp. | [None] | Berks | 5/29/84 | 7/27/84; 49 FR 30179 | (c)(62).
General Battery Corporation | [None] | Berks | 5/29/84 | 7/27/84; 49 FR 30179 | (c)(62).
Tonolli Corporation (Closed) | [None] | Carbon | 5/29/84 | 7/27/84; 49 FR 30179 | (c)(62).
Franklin Smelting and Refining Corporation | [None] | Philadelphia | 9/21/94 | 12/20/96; 61 FR 67275 | (c)(112).
MDC Industries, Inc | [None] | Philadelphia | 9/21/94 | 12/20/96; 61 FR 67275 | (c)(112).
Anzon, Inc | [None] | Philadelphia | 9/21/94 | 12/20/96; 61 FR 67275 | (c)(112).

(e) EPA-approved nonregulatory and quasi-regulatory material.

(1) EPA-Approved Nonregulatory and Quasi-Regulatory Material
Name of non-regulatory SIP revision | Applicable geographic area | State submittal date | EPA approval date | Additional explanation
Sulfur Dioxide Attainment Demonstration | Conewego, Pleasant, and Glade Townships; City of Warren (Warren Co.) | 8/20/01 | 1/17/03; 68 FR 2454 | 52.2033(b).
Sulfor Dioxide Attainment Demonstration | Allegheny County-sulfur dioxide area defined in 40 CFR 81.339 | 8/15/03 | 7/21/04; 69 FR 43522 | 52.2033(c).
Photochemical Assessment Monitoring Stations (PAMS) Program | Philadelphia-Wilmington-Trenton Ozone Nonattainment Area | 9/23/04 | 9/11/05; 60 FR 47081 | 52.2035.
1990 Base Year Emission Inventory—Carbon Monoxide | Philadelphia County | 9/8/95; 10/30/95 | 1/30/96; 61 FR 2982 | 52.2036(a).
1990 Base Year Emission Inventory—VOC | Pittsburgh-Beaver Valley Ozone Nonattainment Area | 3/22/96; 2/18/97; 7/22/98 | 4/3/01; 66 FR 17634 | 52.2036(d).
1990 Base Year Emission Inventory—VOC, CO, NOX | Reading Area (Berks County) | 1/28/97 | 5/7/97; 62 FR 24846 | 52.2036(e).
1990 Base Year Emission Inventory—VOC | Philadelphia-Wilmington-Trenton Ozone Nonattainment Area | 9/12/96 | 6/9/97; 62 FR 31343 | 52.2036(i).
1990 Base Year Emission Inventory—NOX | Philadelphia-Wilmington-Trenton Ozone Nonattainment Area | 7/31/98 | 6/17/99; 64 FR 32422 | 52.2036(l).
1990 Base Year Emission Inventory—NOX | Pittsburgh-Beaver Valley Ozone Nonattainment Area | 3/22/96; 2/18/97 | 10/19/01; 66 FR 53094 | 52.2036(m).
1990 Base Year Emission Inventory-Carbon Monoxide | City of Pittsburgh-CBD & Oakland | 11/12/92; 8/17/01 | 11/12/02; 67 FR 68521 | 52.2036(n).
Post 1996 Rate of Progress Plan | Philadelphia-Wilmington-Trenton Ozone Nonattainment Area | 7/31/98; 2/25/00 | 10/26/01; 66 FR 54143 | 52.2037(i).
One-Hour Ozone Attainment Demonstration | Philadelphia-Wilmington-Trenton Ozone Nonattainment Area | 4/30/98; 8/21/98; 2/25/00; 7/19/01 | 10/26/01; 66 FR 54143 | 52.2037(j).
Mobile Budgets for Post-1996 and 2005 attainment plans | Philadelphia-Wilmington-Trenton Ozone Nonattainment Area | 2/25/00 | 10/26/01; 66 FR 54143 | 52.2037(k).
51% Rate of Progress Plan | Pittsburgh-Beaver Valley Ozone Nonattainment Area | 3/22/96; 2/18/97; 7/22/98; | 4/3/01; 66 FR 17634 | 52.2038(a).
15% Rate of Progress Plan | Philadelphia-Wilmington-Trenton Ozone Nonattainment Area | 9/12/96; 4/10/97; 6/5/98 | 8/24/01; 66 FR 44547 | 52.2038(b).
Control of Asphalt Paving Material (Emission offset) | Defined 16-county area in Western PA and Southwestern PA | 5/20/77; 7/15/77 | 10/6/77; 42 FR 54417 | 52.1120(c)(15) ¹; 52.2054.
Particulate matter SIP | Allegheny County-Clairton PM10 | 1/6/94 | 9/8/98; 63 FR 47434 | 52.2059.
Small Business Assistance Program | Statewide | 2/1/93 | 1/6/95; 60 FR 1738 | 52.2060.
Source Testing Manual | Allegheny County | 9/10/79 | 10/21/81; 46 FR 51607 | 52.2063(c)(4).
Ozone Nonattainment Plan | Statewide | 4/24/79 | 5/20/80; 46 FR 33607 | 52.2063(c)(22).
Non-regulatory measures | Southwest Pa. AQCR | 9/17/79 | 5/20/80; 46 FR 33607 | 52.2063(c)(30).
Air Quality Monitoring Network | Statewide (except Allegheny County) | 1/25/80 | 8/5/81; 46 FR 39822 | 52.2063(c)(34).
Attainment plan for sulfur dioxide | Armstrong County | 4/9/81 | 8/18/81; 46 FR 43423 | 52.2063(c)(36).
Air Quality Monitoring Network | Allegheny County | 12/24/80 | 9/15/81; 46 FR 45762 | 52.2063(c0(38).
Expanded Ridesharing Program | Metro. Philadelphia AQCR | 12/9/81 | 10/7/82; 47 FR 44259 | 52.2063(c)(46).
Lead (Pb) SIP | Allegheny County | 9/6/83 | 2/6/84; 49 FR 4379 | 52.2063(c)(59).
Lead (Pb) SIP | Philadelphia | 8/29/83; 5/15/84 | 8/1/84; 49 FR 30696 | 52.2063(c)(61).
Lead (Pb) SIP | Statewide (except Philadelphia and Allegheny Counties) | 9/30/82; 6/8/84 | 7/27/84; 49 FR 30179 | 52.2063(c)(62).
Ozone and Carbon Monoxide Plan | Metro. Philadelphia AQCR | 6/30/82; 10/24/83 | 2/26/85; 45 FR 7772 | 52.2063(c)(63).
Ozone and Carbon Monoxide Plan | Southwestern Pa. AQCR | 6/30/82; 10/24/83 | 2/26/85; 45 FR 7772 | 52.2063(c)(63).
Ozone and Carbon Monoxide Plan | Allentown-Bethlehem-Easton Air Basin | 6/30/82; 10/24/83 | 2/26/85; 45 FR 7772 | 52.2063(c)(63).
Carbon Monoxide Maintenance Plan | Philadelphia County | 9/8/95; 10/30/95 | 1/30/96; 61 FR 2982 | 52.2063(c)(105).
Source Testing Manual | Statewide | 11/26/94 | 7/30/96; 61 FR 39497 | 52.2063(c)(110) (i)(D); cross-referenced in Section 139.5.
Continuous Source Testing Manual | Statewide | 11/26/94 | 7/30/96; 61 FR 39497 | 52.2063(c)(110) (i)(D); cross-referenced in Section 139.5.
Ozone Maintenance Plan | Reading Area (Berks County) | 1/28/97 | 5/7/97; 62 FR 24846 | 52.2063(c)(123).
Ozone Maintenance Plan | Pittsburgh-Beaver Valley Ozone Nonattainment Area | 5/21/01 | 10/19/01; 66 FR 53094 | 52.2063(c)(188).
|  | 4/11/03 | 8/5/03; 68 FR 46099 | 52.2063(c)(210).
|  | 4/22/04 | 12/10/04; 69 FR 71212 | 52.2063(c)(226); The SIP effective date is 1/10/05.
Carbon Monoxide Maintenance Plan | City of Pittsburgh-CBD & Oakland | 8/17/01 | 11/12/02; 67 FR 68521 | 52.2063(c)(189).
PM10 Maintenance Plan | Allegheny County-Clairton PM10 nonattainment area | 9/14/02 | 9/11/03; 68 FR 53515 | 52.2063(c)(215).
Sulfur Dioxide Maintenance Plan | Allegheny County-sulfur dioxide area defined in 40 CFR 81.339 | 8/15/03 | 7/21/04; 69 FR 43522 | 52.2063(c)(216) (i)(B).
Sulfur Dioxide Maintenance Plan | Conewego, Pleasant, and Glade Townships; City of Warren (Warren Co.) | 5/7/04 | 7/1/04; 69 FR 39860 | 52.2063(c)(224).
¹ Because of an editing error, this section was placed in the wrong subpart of 40 CFR part 52 (subpart W instead of subpart NN), and subsequently removed. However, EPA considers this provision to be a current Federally-enforceable portion of the SIP. The “removed” paragraph reads as follows: “Pennsylvania Department of Transportation change to section 7.5.9.8 of the Paving Maintenance Manual creditable as emission offsets submitted by the Secretary of the Pennsylvania Department of Environmental Resources on July 15, 1997, as addenda to the Pennsylvania Air Quality Implementation Plan.”

(2) EPA-Approved Source-Specific Reasonably Available Control Technology (RACT) Requirements for Volatile Organic Compounds (VOC) and Oxides of Nitrogen (NOX) Not Incorporated by Reference
Name of source | Permit No. | County | State submittal date | EPA approval date | Additional explanation/ § 52.2063 citation
USX Corp./U.S. Steel Group—Fairless Hills | 09-0006 | Bucks | 8/11/95 11/15/95 | 04/09/96; 61 FR 15709 | 52.2036(b); 52.2037(c); source shutdown date is 8/1/91.
General Glass—Jeannette | 65-0675 | Westmoreland | 7/5/95 | 05/16/96; 61 FR 24727 | 52.2036(c); 52.2037(d).
Sharon Steel Company | 43-0017 | Mercer | 12/8/95 | 12/20/96; 61 FR 67275 | 52.2036(f); 52.2037(e).
R.R. Donnelley and Sons Co.—Lancaster East Plant | 36-2027 | Lancaster | 9/20/95 | 07/21/97; 62 FR 33891 | 52.2036(j).
Rockwell Heavy Vehicle, Inc.—New Castle Forge Plant | 37-065 | Lawrence | 4/8/98 | 04/16/99; 64 FR 18818 | 52.2036(k); source shutdown date is 4/1/93.
Pennsylvania Electric Co.—(PENELEC)—Williamsburg Station | 07-2006 | Blair | 8/1/95 | 12/20/96; 61 FR 67275 | 52.2037(f); 52.2063(c)(113)(i)(A) & (ii)(A).
Caparo Steel Company | 43-0285 | Mercer | 12/8/95 | 12/20/96; 61 FR 67275 | 52.2037(g).
Mercerburg Tanning Co. | 28-2008 | Franklin | 4/26/95 | 03/12/97; 62 FR 11079 | 52.2037(h); 52.2063(c)(114)(i)(A)(3) & (ii)(A).
Duquesne Light Co.—Brunot Island Station | 214 | Allegheny | 3/5/01 | 10/18/01; 66 FR 52867 | 52.2063(c)(161)(ii)(A).
Duquesne Light Co.—Phillips Station | 212 | Allegheny | 4/15/99 | 10/18/01; 66 FR 52867 | 52.2063(c)(161)(ii)(B).

[FR Doc. 05-3359 Filed 2-24-05; 8:45 am]

BILLING CODE 6560-50-P